DEPARTMENT OF COMMERCE

International Trade Administration

Export Trade Certificate of Review

AGENCY: International Trade Administration, Commerce.

ACTION: Notice of application to amend an Export Trade Certificate of Review.

SUMMARY: The Office of Export Trading Company Affairs (“OETCA”), International Trade Administration, U.S. Department of Commerce, has received an application to amend an Export Trade Certificate of Review (“Certificate”). This notice summarizes the proposed amendment and requests comments relevant to whether the Certificate should be issued.

FOR FURTHER INFORMATION CONTACT: Jeffrey Anspacher, Director, Office of Export Trading Company Affairs, International Trade Administration, by phone at (202) 482-5131, (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, U.S. Department of Commerce, Room 1800H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 88-6A012.”

The National Tooling and Machining Association's (“NTMA”) original Certificate was issued on October 18, 1988 (53 FR 43140, October 25, 1988) and last amended on March 7, 2002 (67 FR 11981, March 18, 2002). A summary of the application for an amendment follows.

Summary of the Application:

Applicant: National Tooling and Machining Association, 9300 Livingston Road, Ft. Washington, Maryland 20744.

Contact: Thomas H. Garcia, Manager, Marketing Programs, Telephone: (301) 248-6200.

Application No.: 88-6A012.

Date Deemed Submitted: January 6, 2003.

Proposed Amendment: NTMA seeks to amend its Certificate so that the attached list will constitute the “Members” of the Certificate within the meaning of section 325.2(1) of the Regulations (15 CFR 325.2(1)).

Dated: January 9, 2003.
Jeffrey Anspacher,
Director, Office of Export Trading Company Affairs.

Attachment

b & b Tool Company, Inc., Rockford, IL

bmc Industries, Bakersfield, CA

A & A Industries, Inc., Peabody, MA

A & A Machine Company, Inc., Southampton, PA

A & A Machine Shop, Inc., La Marque, TX

A & B Aerospace, Inc., Azusa, CA

A & B Machine Shop, Rockford, IL

A & B Tool & Manufacturing Corp., Toledo, OH

A & D Precision, Fremont, CA

A & E Custom Manufacturing Technologies, Inc., Kansas City, KS

A & E Machine Shop, Inc., Lone Star, TX

A & G Machine, Inc., Auburn, WA

A & S Tool & Die Company, Inc., Kernersville, NC

A A Precisioneering, Inc., Meadville, PA

A B A Division, A B A—P G T, Inc., Manchester, CT

A B C O Tool & Engineering, Phoenix, AZ

A B Heller, Inc., Milford, MI

A B R Enterprises Inc., Temple City, CA

A C Machine, Inc., Akron, OH

A E Cole Die & Engraving, Columbus, OH

A E Machine Works, Inc., Houston, TX

A F C Tool Company, Inc., Subsidiary of F C Industries, Dayton, OH

A I M Tool & Die, Grand Haven, MI

A J L Manufacturing Company, Inc., Rochester, NY

A M C Precision, Inc., N. Tonawanda, NY

A M Machine Company, Inc., Baltimore, MD

A S C Corporation, Owings Mills, MD

A. C. Cut-Off, Inc., Azusa, CA

A-G Tool & Die, Div. of Seilkop Industries, Inc., Miamitown, OH

A-Line Tool & Die, Inc., Louisville, KY

A-RanD, Inc., Phoenix, AZ

Abbott Machine & Tool, Inc., Toledo, OH

Abbott Tool, Inc., Toledo, OH

Ability Tool Company, Rockford, IL

Able Wire EDM, Inc., Brea, CA

Abrams Airborne Manufacturing, Inc., Tucson, AZ

Absolute Grinding Co., Inc., Mentor, OH

Absolute Turning & Machine, Tucson, AZ

Acadiana Hydraulic Works, Inc., New Iberia, LA

Accu Die & Mold Inc., Stevensville, MI

Accu-Met Laser, Inc., Cranston, RI

Accu-Roll, Inc., Rochester, NY

Accudynamics, Inc., Middleboro, MA

Accura Industries, Inc., Rochester, NY

Accurate Grinding & Mfg. Corp. & Accurate Fishing Products, Corona, CA

Accurate Machine Co. Inc., Indianapolis, IN

Accurate Manufacturing Company, Glendale, CA

Accurate Products Co., Tucson, AZ

Accurite Machine & Mfg. Inc., Louisville, KY

Accutronics, Inc., Littleton, CO

Ace Manufacturing Company, Cincinnati, OH

Ace Specialty Company, Inc., Tonawanda, NY

Ackley Machine Corporation, Moorestown, NJ

Acme Metal Works, Gilbert, AZ

Acraloc Corporation, Oak Ridge, TN

Acro Industries, Inc., Rochester, NY

Acro Tool & Die Company, Inc., Akron, OH

Actco Tool & Mfg. Co., Meadville, PA

Action Die & Tool Inc., Wyoming, MI

Action Machine L.L.C., Glendale, AZ

Action Mold & Machining, Inc., Grand Rapids, MI

Action Precision Grinding Inc., North Tonawanda, NY

Action SuperAbrasive Products, Brimfield, OH

Action Tool and Manufacturing, Inc., Rockford, IL

Acucut, Inc., Southington, CT

Acutec Precision Machining Inc., Saegertown, PA

Adams Engineering, Division of Manufacturing Technology, Inc., South Bend, IN

Adaptive Technologies Inc., Springboro, OH

Addison Precision Mfg. Corp., Rochester, NY

Adena Tool Corporation, Dayton, OH

Admill Machine Company, Newington, CT

Adron Tool Corporation, Menomonee Falls, WI

Advance Manufacturing Corp., Cleveland, OH

Advanced Composite Products & Technology, Inc. (ACPT Inc.), Huntington Beach, CA

Advanced Machine Inc., Rochester, NY

Advanced Machine Programming, Morgan Hill, CA

Advanced Machining Corporation, Salisbury, NC

Advanced Measurement Labs, Inc., Sun Valley, CA

Advanced Mold & Tooling Inc., Rochester, NY

Advanced Precision Engineering, Ipswich, MA

Advanced Tooling Specialists Inc., Menasha, WI

Advanced Tooling Systems, Inc., Comstock Park, MI

Advantage Mold & Design, Meadville, PA

Aero Comm Machining, Wichita, KS

Aero Engineering & Mfg. Company, Valencia, CA

Aero Gear, Inc., Windsor, CT

Aerostar Aerospace Inc., Phoenix, AZ

Aetna Machine Company, Cochranton, PA

Aggressive Tool & Die, Inc., Buckner, KY

Aggressive Tool & Die, Inc., Coopersville, MI

Ahaus Tool & Engineering, Inc., Richmond, IN

Aimco Precision, Inc., Phoenix, AZ

Ajax Tool, Inc., Fort Wayne, IN

Akro Tool Co., Inc., Cincinnati, OH

Akron Steel Fabricators Company, Akron, OH

Akron Tool & Die Company, Inc., Akron, OH

Albert Seisler Machine Corp., Mohnton, PA

Albertson & Hein, Inc., Wichita, KS

Albion Machine & Tool Company, Albion, MI

Alco Manufacturing, Inc., Santa Ana, CA

Alfred Manufacturing Company, Denver, CO

Alger Machine Company, Inc., Rochester, NY

All Five Tool Company, Inc., Bristol, CT

All Tool Company, Union, NJ

All Tools Company, Oklahoma City, OK

All Tools Texas, Inc., Houston, TX

All Weld Machine, Milpitas, CA

All-Tech Machine & Eng., Inc., Fremont, CA

All-Tech Machining, Inc., Wilmer, AL

Allen Aircraft Products, Inc., Ravenna, OH

Allen Precision Industries, Inc., Asheboro, NC

Allen Precision Machining Co., Angleton, TX

Allen Randall Enterprises, Inc., Akron, OH

Alliance Machine Tool Co., Inc., Louisville, KY

Allied Mechanical, Ontario, CA

Allied Screw Products, Inc., Mishawaka, IN

Allied Tool & Die Company, LLC, Phoenix, AZ

Allied Tool & Die, Inc., Cleveland, OH

Allied Tool & Machine Company, Kernersville, NC

Allied Tool & Machine, Inc., Saginaw, MI

Allied Tools Of Texas, Houston, TX

Alloy Metal Products, Livermore, CA

Allstate Tool & Die, Inc., Rochester, NY

Alpha Mold West Inc., Broomfield, CO

Alpha Mold, LLC, Huber Heights, OH

Alpha Precision Machining Inc., Kent, WA

Alpha Tooling, Inc., Santa Fe Springs, CA

Alro Specialty Metals, St. Louis, MO

Alt's Tool & Machine, Inc., Santee, CA

Alton Products, Inc., Maumee, OH

Alves Precision Engineered Products Inc., Watertown, CT

Amatrol, Inc., Jeffersonville, IN

Ambel Precision Mfg. Corp., Bethel, CT

American Machine & Gundrilling Co., Inc., Maple Grove, MN

American Mfg. & Machining, Inc., Racine, WI

American Precision Machining, Inc., Phoenix, AZ

American Precision Technologies, Inc., San Fernando, CA

American Tool & Die, Inc., Toledo, OH

American Wire EDM, Inc., Placentia, CA

Amerimold, Inc., Mogadore, OH

Amity Mold Company, Tipp City, OH

Anchor Lamina Inc., Madison Heights, MI

Anders Machine and Engraving, Div. of Ad-Tech Machine & Tool, Rochester, NY

Andrew Tool Company, Inc., Plymouth, MN

Anglo-American Mold, Inc., Louisville, KY

Anmar Precision Components Inc., North Hollywood, CA

Anmark Machine, Tempe, AZ

Anoplate Corporation, Syracuse, NY

Apex Machine Company, Ft. Lauderdale, FL

Apex Machine Tool Company, Farmington, CT

Apex Precision Technologies, Inc., Camby, IN

Apex Tool & Manufacturing, Inc., Evansville, IN

Apollo E.D.M. Company, Fraser, MI

Apollo Precision, Inc., Plymouth, MN

Apollo Products Inc., Willoughby, OH

Applegate EDM, Inc., Dallas, TX

Applied Engineering, Inc., Yankton, SD

Arc Drilling Inc., Garfield Heights, OH

Arco Industries, Inc., Dayton, OH

Arco Metals Corporation, Baltimore, MD

Ardekin Machine Company, Rockford, IL

Area Tool & Manufacturing, Inc., Meadville, PA

Argo Tool Corporation, Twinsburg, OH

Arkansas Tool & Die, Inc., No. Little Rock, AR

Arlington Machine & Tool Company, Fairfield, NJ

Armin Tool & Manufacturing Co., Inc., South Elgin, IL

Armstrong Machine Works, Inc., Rogersville, TN

Armstrong Mold, Machining Div., East Syracuse, NY

Armstrong-Blum Mfg. Co., Mt. Prospect, IL

Arnett Tool, Inc., New Paris, OH

Arro Tool & Die, Inc., Lakewood, NY

Arrow Diversified Tooling, Inc., Ellington, CT

Arrow Grinding, Inc., Tonawanda, NY

Arrow Sheet Metal Products Co., Denver, CO

Artisan Machining, Inc., Bohemia, NY

Ascension Industries, North Tonawanda, NY

Ash Machine Corporation, Pataskala, OH

Associated Electro-Mechanics, Inc., Springfield, MA

Associated Technologies, Brea, CA

Associated Toolmakers, Inc., Keokuk, IA

Astley Precision Machine Co., Irwin, PA

Astro Automation, Inc., Irwin, PA

Astro Machine Works Inc., Ephrata, PA

Atec Engineering, Phoenix, AZ

Athens Industries, Southington, CT

Atkins Tool Company, Riverton, NJ

Atlantic Precision Products Inc., Sanford, ME

Atlantic Tool & Die Company, Strongsville, OH

Atlas Machine & Supply, Inc., Louisville, KY

Atlas Tool, Inc., Roseville, MI

August Machine, Inc., Phoenix, AZ

Austin Machine Company Inc., O'Fallon, MO

Autocam Corporation, Kentwood, MI

Automated Cells & Equipment, Inc., Painted Post, NY

Automated EDM Incorporated, Ramsey, MN

Automation Tool & Die, Inc., Brunswick, OH

Automation Tool Company, Cookeville, TN

Axian Technology, Phoenix, AZ

Ay Machine Company, Ephrata, PA

Ay-Mac Precision, Inc., Yorba Linda, CA

ACMT, Inc. dba A C Tool & Machine, Co., Louisville, KY

ALKAB Contract Manufacturing, Inc., New Kensington, PA

B & B Machine & Grinding Service, Denver, CO

B & B Manufacturing Company, Largo, FL

B & B Precision Mfg., Inc., Avon, NY

B & G Quality Machine & Tool, Company, Inc., Baltimore, MD

B & H Fabricators, Inc., Wilmington, CA

B & H Tool Co. Inc., San Marcos, CA

B & H Tool Works, Inc., of Rockcastle Co., Richmond, KY

B & L Tool and Machine Company, Plainville, CT

B & M Machine Corporation of Racine, Racine, WI

B C D Metal Products Inc., Malden, MA

B. Radtke & Sons, Inc., Round Lake Park, IL

B-W Grinding Service, Inc., Houston, TX

Bachman Machine Company, Inc., St. Louis, MO

Bachmann Precision Machine, Products Corp., South El Monte, CA

Badge Machine Products, Inc., Canandaigua, NY

Bahrs Die & Stamping Company, Inc., Cincinnati, OH

Baker Hill Industries, Inc., Coral Springs, FL

Banner Machine Inc., Phoenix, AZ

Barberie Mold, Gardena, CA

Barnes Aerospace-Apex Mfg., Phoenix, AZ

Baumann Engineering, Claremont, CA

Bawden Industries, Inc., Romulus, MI

Baxter Machine Products, Inc., Huntingdon, PA

Beach Mold & Tool, Inc., New Albany, IN

Beacon Tool Company, Inc., Whittier, CA

Beaver Tool & Machine Company, Inc., Feasterville, PA

Bechler Cams, Inc., Anaheim, CA

Becker, Inc., Kenosha, WI

Becksted Machine, Inc., Tucson, AZ

Bedard Machine, Inc., Brea, CA

Bel-Kur, Inc., Temperance, MI

Belgian Screw Machine Products, Inc., Concord, MI

Bell Engineering, Inc., Saginaw, MI

Bellco Precision Manufacturing, Inc., Melissa, TX

Beloit Precision Die Co. Inc., Beloit, WI

Benda Tool & Model Works, Hercules, CA

Bendon Gear Machine, Rockland, MA

Bennett Tool & Die Company, Nashville, TN

Bennett Tool & Machine, Fremont, CA

Benning Inc., Blaine, MN

Bent River Machine Inc., Clarkdale, AZ

Berman Tool & Die, Waldorf, MD

Bermar Associates, Inc., Troy, MI

Bertram Tool & Machine Co., Inc., Farrell, PA

Bertrand Products, Inc., South Bend, IN

Best Tool & Manufacturing Co., Inc., Kansas City, MO

Bestway Industries, Inc., Cleveland, OH

Beta Machine Co. Inc., Cleveland, OH

Bilar Tool & Die Corporation, Warren, MI

Billet Industries, Inc., York, PA

Bishop Steering Technology, Inc., Indianapolis, IN

Black Creek Mold & Tool, Rainbow City, AL

Blackwood Grinding Inc., Hurst, TX

Blandford Machine & Tool Co., Inc., Louisville, KY

Blue Chip Mold, Inc., Rochester, NY

Bluegrass Forging, Tool & Die, Shelbyville, KY

Bob's Tool & Cutter Grinding, Inc., Indianapolis, IN

Bohler Uddeholm North America, Santa Fe Springs, CA

Boice Industrial Corporation, Ruffsdale, PA

Bolt Industries, LLC, Phoenix, AZ

Bosma Machine & Tool, Corporation, Tipp City, OH

Boston Centerless Inc., Woburn, MA

Bourdelais Grinding Co., Inc., Chatsworth, CA

Bowden Manufacturing Corp., Willoughby, OH

Boyce Machine, Inc., Cuyahoga Falls, OH

Boyle, Inc., Freeport, PA

Bra-Vor Tool & Die Company, Inc., Meadville, PA

Bradford Machine Company Inc., Brattleboro, VT

Bradhart Products, Inc., Brighton, MI

Bramko Tool & Engineering, Inc., O'Fallon, MO

Bratt Machine Company Inc., No. Andover, MA

Brij Systems, Wichita, KS

Brinkman Tool & Die, Inc., Dayton, OH

Brittain Machine, Inc., Wichita, KS

Broadway Companies, Inc., Englewood, OH

Brogdon Tool & Die, Inc., Blue Springs, MO

Brookfield Machine, Inc., West Brookfield, MA

Brooklyn Machine & Mfg. Co., Inc., Cuyahoga Heights, OH

Brooklyn Scraping & Re-Machining, Inc., W. Lafayette, IN

Brooks Machine Tool Corporation dba, Time Machine & Stamping, Phoenix, AZ

Brown-Covey, Inc., Kansas City, MO

Brownstown Quality Tool & Design, Brownstown, IN

Budney Overhaul & Repair, LTD., Berlin, CT

Buerk Tool LLC, Buffalo, NY

Buiter Tool & Die, Inc., Grand Rapids, MI

Bundy Manufacturing Inc., El Segundo, CA

Burckhardt America, Inc., Greensboro, NC

Burger & Brown Engineering, Inc., Olathe, KS

Burgess Brothers, Inc., Canton, MA

BMCO Industries Inc., Cranston, RI

BPS Industries Inc., Baltimore, MD

BSB Products Corporation, Buffalo, NY

BT Laser, Inc., Santa Clara, CA

C & C Machine Company, Akron, OH

C & C Precision Machining Inc., Mesa, AZ

C & G Machine & Tool Co., Inc., Granby, MA

C & J Industries Inc., Meadville, PA

C & R Manufacturing, Inc., Shawnee, KS

C & S Machine & Manufacturing, Corporation, Louisville, KY

C A R Engineering & Mfg., Victor, NY

C B Kaupp & Sons, Inc., Maplewood, NJ

C B S Manufacturing Company, Inc., Windsor, CT

C D M Tool & Mfg. Co., Inc., Hartford, WI

C J Winter Machine Technologies, Inc., Rochester, NY

C M Gordon Industries Inc., Santa Fe Springs, CA

C M Industries, Inc., d/b/a Custom Marine, Inc., Old Saybrook, CT

C N C Precision Machining, Inc., Comstock Park, MI

C T D Machines, Inc., Los Angeles, CA

C V Tool Company, Inc., Southington, CT

C. G. Tech, Inc., Phoenix, AZ

C-Axis Inc., Hamel, MN

C-P Mfg. Corp., Van Nuys, CA

Caco Pacific Corporation, Covina, CA

Cadco Program & Machine, St. Charles, MO

Cal-Weld, Fremont, CA

Calder Machine Co. (CMC), Florence, SC

California Wire EDM, Santa Ana, CA

Calmax Technology, Inc., Santa Clara, CA

Cambridge Specialty Company, Inc., Kensington, CT

Cambridge Tool & Die Corp., Cambridge, OH

Cameron Machine Shop, Inc., Richardson, TX

Campbell Grinding & Machine, Inc., Lewisville, TX

Campro Manufacturing, Inc., Phoenix, AZ

Camtec, Inc., Traverse City, MI

Canto Tool Corporation, Meadville, PA

Capitol Technologies, Inc., South Bend, IN

Capitol Tool & Die, L. P., Madison, TN

Carboloy Inc., Warren, MI

Cardinal Machine Company, Inc., Strongsville, OH

Carius Tool Co., Inc., Cleveland, OH

Carlson Capital Manufacturing Co., Rockford, IL

Carlson Tool & Manufacturing, Corp., Cedarburg, WI

Cass Screw Machine Products, Company, Brooklyn Center, MN

Catalina Tool & Mold, Inc., Tucson, AZ

Cates Machine Shop, Inc., Tyler, TX

Cee-San Machine & Fabrication, Co., Inc., Houston, TX

Centaur Tool & Die, Inc., Bowling Green, OH

Centennial Technologies, Inc., Saginaw, MI

Center Line Industries, Inc., West Springfield, MA

Center Line Machine Company, Lafayette, CO

Center Line Tool, Freeport, PA

Central Mass. Machine, Inc., Holyoke, MA

Central States Machine Service, Elkhart, IN

Central Tools, Inc., Cranston, RI

Century Mold Company, Inc., Rochester, NY

Century Tool & Engr., Inc., Indianapolis, IN

Cer-Mac Inc., Horsham, PA

CertainTeed, Auburn, WA

Certified Grinding & Machine, Inc., Rochester, NY

Certified Industries, II, LLC, Phoenix, AZ

Chadakoin Interactive, Thompsons Station, TN

Chance Tool & Die Co., Inc., Cincinnati, OH

Chandler Tool & Design Inc., Rockford, IL

Chapman Engineering, Inc., Santa Ana, CA

Charmilles Technologies Corporation, Lincolnshire, IL

Chase Machine & Mfg. Co., Rochester, NY

Chelar Tool & Die, Inc., Belleville, IL

Cherokee Industries, Hampshire, IL

Chicago Grinding & Machine Co., Melrose Park, IL

Chicago Mold Engineering Co., Inc., St. Charles, IL

Chickasha Manufacturing Company, Inc., Chickasha, OK

Chippewa Tool & Manufacturing Co., Woodville, OH

Chopper Guys Biker Products, Inc., Vallejo, CA

Christopher Tool & Manufacturing, Solon, OH

Cindex Industries Inc., Ludlow, MA

Circle-K-Industries, K-Form Inc., Sterling, VA

Clark Automation Manufacturing Company, Inc., Pleasanton, CA

Clark-Reliance Corporation, Strongsville, OH

Clarke Engineering, Inc., Clarke Gear Co., North Hollywood, CA

Class Machine & Welding, Inc., Akron, OH

Classic Tool, Inc., Saegertown, PA

Clay & Bailey Mfg. Co., Kansas City, MO

Cleveland Electric Laboratories, Company, Inc., Twinsburg, OH

Clifton Automatic Screw, Machine Products, Inc., Lake City, PA

Cloud Company, San Luis Obispo, CA

Coast Cutters Company, Inc., South El Monte, CA

Cobak Tool & Manufacturing Co., St. Louis, MO

Coffey Associates, Washington, DC

Coil Pro Machinery, Southington, CT

Colbrit Manufacturing Co., Inc., Chatsworth, CA

Collins Instrument Company, Angleton, TX

Collins Machine & Tool Co., Inc., Madison, TN

Colonial Machine & Tool Co., Inc., Coventry, RI

Colonial Machine Company, Kent, OH

Colorado Surface Grinding, Inc., Denver, CO

Comet Tool, Inc., Hopkins, MN

Command Tooling Systems, Ramsey, MN

Commerce Grinding, Inc., Dallas, TX

Commercial Grinding Services, Inc., Cleveland, OH

Commonwealth Machine Co., Inc., Danville, VA

Competition Tooling, Inc., High Point, NC

Competitive Engineering Inc., Tucson, AZ

Complete Tool & Die, Inc., St. James, MO

Composidie, Inc., Apollo, PA

Compu Die, Inc., Wyoming, MI

Compumachine Incorporated, Wilmington, MA

Computech Manufacturing Co., Inc., No. Kansas City, MO

Computerized Machining Service, Inc., Englewood, CO

Conco Systems, Inc., Verona, PA

Condor Engineering, Inc., Colorado Springs, CO

Coney Tool Inc., Independence, MO

Connecticut Jig Grinding, Inc., New Britain, CT

Connolly Tool & Machine Co., Dallas, TX

Conroy & Knowlton, Inc., Los Angeles, CA

Consolidated Mold & Mfg. Inc., Kent, OH

Conti Tool & Die Company, Akron, OH

Continental Precision, Inc., Phoenix, AZ

Continental Tool & Machine, Strongsville, OH

Continental Tool & Manufacturing, Inc., Lenexa, KS

Cook Machine and Engineering Corporation, Gardena, CA

Coosa Machine Company, LLC, Rainbow City, AL

Corbitt Mfg. Company, St. Charles, MO

Cornerstone Design, LTD., Franksville, WI

Cornerstone Screw Machine Products, Burbank, CA

Corning Gilbert Inc., Glendale, AZ

Corry Custom Machine, Corry, PA

Cosar Mold, Inc., Brimfield, OH

Costa Machine, Inc., Akron, OH

Covert Manufacturing, Inc., Galion, OH

Cox Mfg. Co. Inc., San Antonio, TX

Cox Tool Company, Inc., Excelsior Spring, MO

Craig Machinery & Design, Inc., Louisville, KY

Creative Machining & Mfg., Inc., St. Petersburg, FL

Creative Precision, West, Phoenix, AZ

Creb Engineering, Inc., Pascoag, RI

Crenshaw Die & Manufacturing, Corp., Irvine, CA

Crest Manufacturing Company, Lincoln, RI

Criterion Tool & Die, Inc., Brook Park, OH

Critical Operations, Inc., Santa Ana, CA

Cross Tool & Manufacturing, Inc., Flagstaff, AZ

Crossland Machinery, Kansas City, MO

CrossRidge Precision, Oak Ridge, TN

Crown Mold & Machine, Streetsboro, OH

Crucible Materials Corporation, Camillus, NY

Crush Master Grinding Corp., Walnut, CA

Custom Engineering, Inc., Evansville, IN

Custom Gear & Machine, Inc., Rockford, IL

Custom Machine, Inc., Woburn, MA

Custom Machine, Inc., Cleveland, OH

Custom Tool & Design, Inc., Erie, PA

Custom Tool & Grinding Inc., Washington, PA

Custom Tool & Model Corp., Frankfort, NY

Cut-Right Tools Corporation, Willoughby, OH

Czech Tool, Saegertown, PA

CB Quality Machining & Engineering Inc., Buffalo, MN

CDL Manufacturing, Inc., Rochester, NY

CHIPSCO, Inc., Meadville, PA

CNC Corp., Colorado Springs, CO

CNC Precision Manufacturing, Inc., Farmers Branch, TX

CPC Tooling Technologies, Columbus, OH

D & H Manufacturing Company, Fremont, CA

D & N Precision, Inc., San Jose, CA

D & S Manufacturing Corporation, Southwick, MA

D M E Company, Madison Heights, MI

D M Machine & Tool, Kennerdell, PA

D M Machine Company, Inc., Willoughby, OH

D P I, Inc., Huntingdon Vly, PA

D P Tool & Machine Inc., Avon, NY

D S A Precision Machining, Inc., Livonia, NY

D S Greene Company, Inc., Wakefield, MA

D. F. O'Brien Precision Machining & Tooling, Santa Fe Springs, CA

D-K Manufacturing Corporation, Fulton, NY

D-Velco Manufacturing, Phoenix, AZ

Daca Machine & Tool, Inc., Dutzow, MO

Dadeks Machine Works Corporation, Houston, TX

Daily Industrial Tools, Costa Mesa, CA

Dan McEachern Company, Alameda, CA

Danco Precision, Inc., Phoenixville, PA

Dane Systems, Inc., Stevensville, MI

Danly IEM, Div. of Connell Ltd. Partnership, Cleveland, OH

Data Machine, Inc., Adamsburg, PA

Data Mold & Tool, Inc., Walbridge, OH

Datum Industries, Kentwood, MI

David Engineering & Mfg., Corona, CA

Davis Machine & Manufacturing Company, Arlington, TX

Davis Tool & Die Company Inc., Fenton, MO

Dayton Progress Corporation, West Carrollton, OH

Dayton Reliable Tool & Mfg. Co., Dayton, OH

DaCo Precision Manufacturers, Sandy, UT

Dearborn Precision Tubular, Products, Inc., Fryeburg, ME

Deck Brothers, Inc., Buffalo, NY

Deep Holdings, Inc., dba Deephole Machine, Houston, TX

Deeter's Tool & Mfg., Inc., Erie, PA

Dekalb Tool & Die, Inc., Tucker, GA

Delco Corporation, Akron, OH

Dell Tool, Penfield, NY

Delltronics, Inc., Englewood, CO

Deltron Engineering, Burbank, CA

Demaich Industries, Inc., Johnston, RI

Dependable Machine Company, Inc., Indianapolis, IN

Desert Precision Mfg., Inc., Tucson, AZ

Designs For Tomorrow, Inc., Maryland Heights, MO

Detroit Tool & Engineering Co., Lebanon, MO

Deutsch ECD, Hemet, CA

DeKing Screw Products Inc., Chatsworth, CA

Di-Matrix, Phoenix, AZ

Dial Machine Company, Andalusia, PA

Diamond Lake Tool, Inc., Anoka, MN

Diamond Tool & Engineering, Inc., Bertha, MN

Diamond Tool, Inc., Euclid, OH

Die Cast Die and Mold, Inc., Perrysburg, OH

Die Products Company, Minneapolis, MN

Die Quip Corp., Bethel Park, PA

Die Solutions, Inc., Washington, MO

Die Tech Industries, Ltd., Providence, RI

Die-Matic Corporation, Brooklyn Heights, OH

Die-Matic Tool and Die, Inc., Grand Rapids, MI

Die-Mension Corporation, Brunswick, OH

Die-Namic Inc., Taylor, MI

Diemaster Tool & Mold, Inc., Macedonia, OH

Dietooling, Div. of Diemolding, Wampsville, NY

Digital Tool & Die, Inc., Grandville, MI

Distefano Tool & Mfg. Company, Omaha, NE

Distinctive Machine Corporation, Grand Rapids, MI

Diversified Engraving Stamp, & Machine Company, Akron, OH

Diversified Manufacturing, Incorporated, Lockport, NY

Diversified Tool & Die, Vista, CA

Diversified Tool, Inc., Mukwonago, WI

Dixie Tool & Die Co., Inc., Gadsden, AL

Double D Machine & Tool Company, Fremont, OH

Doyle Manufacturing, Inc., Holland, OH

Drabik Tool and Die Inc., Brook Park, OH

Drewco Corporation, Franksville, WI

Drill Masters Inc., Hamden, CT

Dugan Tool & Die Company, Toledo, OH

Dun-Rite Industries, Inc., Temperance, MI

Dunn & Bybee Tool Company, Inc., Sparta, TN

Dura-Metal Products Corporation, Irwin, PA

Durivage Pattern & Mfg. Co. Inc., Williston, OH

DuWest Tool & Die, Inc., Cleveland, OH

Dynamic Engineering, Inc., Minneapolis, MN

Dynamic Fabrication, Inc., Santa Ana, CA

Dynamic Machine & Fabricating, Phoenix, AZ

Dynamic Tool & Design, Inc., Menomonee Falls, WI

DynaGrind Precision, Inc., New Kensington, PA

Dysinger Incorporated, Dayton, OH

Dytran Instruments, Inc., Chatsworth, CA

E & S Precision Machine, LLC, Modesto, CA

E B & Sons Machine Inc., Aliquippa, PA

E C M of Florida, Jupiter, FL

E J Codd Co. of Baltimore City &, Codd Fabricators & Boiler Co., Inc., Baltimore, MD

E K L Machine Company, Inc., Andalusia, PA

E R C Concepts Company, Inc., Sunnyvale, CA

E W Johnson Company, Inc., Lewisville, TX

E.T. Precision Optics Inc., Rochester, NY

E-Fab, Inc., Santa Clara, CA

Eagle Mold Company, Inc., Carlisle, OH

Eagle Precision Tooling Inc., Erie, PA

Eagle Technologies Group, St. Joseph, MI

Eagle Tool & Machine Company, Inc., Springfield, OH

East Side Machine, Inc., Webster, NY

East Texas Machine Works, Inc., Longview, TX

Ebway Corporation, Fort Lauderdale, FL

Eckert Enterprises Ltd., Tempe, AZ

Eckert Machining, Inc., San Jose, CA

Eclipse Mold, Inc., Clinton Township, MI

Eclipse Tool & Die, Inc., Wayland, MI

Edco, Inc., Toledo, OH

Edge-Tech, Inc., Redmond, WA

Edwardsville Machine & Welding, Company, Inc., Edwardsville, IL

Egli Machine Company, Inc., Sidney, NY

Ehlert Tool Co., Inc., New Berlin, WI

Ehrhardt Tool & Machine Company, Granite City, IL

Eicom Corporation, Moraine, OH

Ejay's Machine Co., Inc., Fullerton, CA

Elcam Tool & Die, Inc., Wilcox, PA

Electra Form Industries Inc., Vandalia, OH

Electric Enterprise Inc., Stratford, CT

Electro-Freeto Manufacturing Co., Inc., Wayland, MA

Electro-Mechanical Products, Inc., Denver, CO

Electro-Tech Machining, Long Beach, CA

Electroform Co. Inc., Machesney Park, IL

Elite Tool & Machinery Systems, Inc, O'Fallon, MO

Elizabeth Carbide Die Co., Inc., McKeesport, PA

Elliot Tool & Manufacturing Co., St. Louis, MO

Elliott's Precision, Inc., Peoria, AZ

Ellis Machine and Fabrication Inc., Buffalo, NY

Ellis Tool & Machine, Inc., Tom Bean, TX

Elrae Industries, Alden, NY

Emmert Welding & Manufacturing, Inc., Independence, MO

Empire Die Casting Co., Inc., Macedonia, OH

Empire Manufacturing Corporation, Bridgeport, CT

Engineered Pump Services, Inc., Pasadena, TX

Entek Corporation, Norman, OK

Enterprise Tool & Die, Brooklyn Heights, OH

Ephrata Precision Parts, Inc., Denver, PA

Epicor Software Corporation, Minneapolis, MN

Erickson Tool & Machine Company, Rockford, IL

Erie Shore Machine Co., Inc., Cleveland, OH

Erie Specialty Products, Inc., Erie, PA

Estee Mold & Die, Inc., Dayton, OH

Esterle Mold & Machine Co., Stow, OH

Estul Tool & Manufacturing Co., Inc., Matthews, NC

Evans Tool & Die, Inc., Conyers, GA

Ever Fab, Inc., East Aurora, NY

Ever-Ready Tool, Inc., Largo, FL

Everett Pattern and Mfg., Inc., Middleton, MA

Ewart-Ohlson Machine Company, Cuyahoga Falls, OH

Ex-Cel Machine & Tool, Inc., Louisville, KY

Exact Cutting Service, Inc., Brecksville, OH

Exact Tool & Die, Inc., Brook Park, OH

Exacta Machine, Inc., Wichita, KS

Exacta Tech Inc., Livermore, CA

Exacto, Inc. of South Bend, South Bend, IN

Excaliber Precision Machining, Peoria, AZ

Excel Manufacturing Inc., Seymour, IN

Excel Manufacturing, Inc., Valencia, CA

Excel Precision, Inc., Tempe, AZ

Excel Stamping & Manufacturing, Inc., Houston, TX

Executive Mold Corporation, Huber Heights, OH

Ezell Precision Tool Company, Clearwater, FL

EDM Supplies, Inc., Downey, CA

EROWA Technology Inc., Arlington Hts., IL

EWT, Inc., Rockford, IL

F & F Machine Specialties, Mishawaka, IN

F & G Tool & Die Company, Dayton, OH

F & S Tool, Inc., Erie, PA

F D T Precision Machine Co., Inc., Taunton, MA

F G A Inc., Baton Rouge, LA

F H Peterson Machine Corporation, Stoughton, MA

F K Instrument Co., Inc., Clearwater, FL

F M Machine Company, Akron, OH

F N Smith Corporation, Oregon, IL

F P Pla Tool & Manufacturing Co., Buffalo, NY

F S G Inc, Mishawaka, IN

F T T Manufacturing Inc., Geneseo, NY

F Tinker & Sons Company, Pittsburgh, PA

F W Gartner Thermal Spraying Co., Houston, TX

F-Squared, Inc., Tarentum, PA

Fabricast, Inc., So. El Monte, CA

Fabritek Company, Inc., Winchester, VA

Fairbanks Machine & Tool, Raytown, MO

Fairview Machine Company, Inc., Topsfield, MA

Fairway Molds, Inc., Walnut, CA

Falls City Machine Technology, Louisville, KY

Falls Mold & Die, Inc., Stow, OH

Fame Tool & Manufacturing Co., Cincinnati, OH

FamPEC Technology LLC, Murfreesboro, TN

Fargo Machine Company, Inc., Ashtabula, OH

Farrar Corporation, Norwich, KS

Farzati Manufacturing Corp., Greensburg, PA

Faustson Tool Corp., Arvada, CO

Fay & Quartermaine Machining Corp., El Monte, CA

Fay Tool & Die, Inc., Orlando, FL

Feedall, Inc., Willoughby, OH

Feilhauer's Machine Shop Inc., Cincinnati, OH

Fenton Manufacturing, Inc., Ashtabula, OH

Fenwick Machine & Tool, Piedmont, SC

Feral Productions LLC., Newark, CA

Ferriot Inc., Akron, OH

First International Bank, Hartford, CT

Fischer Precision Spindles, Inc., Berlin, CT

Fischer Tool & Die Corporation, Temperance, MI

Five Star Tool Company, Inc., Rochester, NY

Fleck Machine Company, Inc., Hanover, MD

Foresight Technologies, Tempe, AZ

Forster Tool & Mfg. Inc., Bensenville, IL

Fortner & Gifford, Inc., Prescott, AZ

Fostermation Inc., Meadville, PA

Fox Valley Tool & Die, Inc., Kaukauna, WI

Franchino Mold & Engineering, Lansing, MI

Frasal Tool Co., Inc., Newington, CT

Frazier Aviation, Inc., San Fernando, CA

Fre-Mar Industries, Inc., Brunswick, OH

Fredon Corporation, Mentor, OH

Free-MaDie Company, Kittanning, PA

Freeport Welding & Fabricating, Inc., Freeport, TX

Fries Machine & Tool, Inc., Dayton, OH

Frost & Company, Charlestown, RI

Fulton Industries, Inc., Rochester, IN

Furno Co. Inc., Pomona, CA

Future Fabricators, Phoenix, AZ

Future Tool & Die, Inc., Grandville, MI

Fyco Tool & Die, Inc., Houston, TX

FCMP, Inc., Buffalo, NY

FRB Machine Inc., Emlenton, PA

G & G Tool Company, Inc., Sidney, OH

G & K Machine Company, Denver, CO

G & L Tool Corp., Agawam, MA

G B F Enterprises, Inc., Santa Ana, CA

G B Tool Company, Warwick, RI

G H Tool & Mold, Inc., Washington, MO

G M T Corporation, Waverly, IA

G R McCormick, Inc., Burbank, CA

G S Precision, Inc., Brattleboro, VT

Gadsden Tool, Inc., Gadsden, AL

Gales Manufacturing Corporation, Racine, WI

Gambar Products Company, Inc., Warwick, RI

Garcia Associates, Arlington, VA

Gatco, Inc., Plymouth, MI

Gateway Metals Inc., Crestwood, MO

Gauer Mold & Machine Company, Tallmadge, OH

Gaum, Inc., Robbinsville, NJ

Gear Manufacturing, Inc., Anaheim, CA

Geiger Manufacturing, Inc., Stockton, CA

Gene's Gundrilling Inc., Alahambra, CA

General Aluminium Forgings, Colorado Springs, CO

General Engineering Company, Toledo, OH

General Grinding, Inc., Oakland, CA

General Machine Shop, Inc., Cheverly, MD

General Machine-Diecron, Inc., Griffin, GA

General Tool & Die Company, Inc., Racine, WI

General Tool Company, Cincinnati, OH

Genesee Manufacturing Company, Inc., Rochester, NY

Genesee Metal Stampings, Inc., West Henrietta, NY

Genesee Precision Mfg., Inc., Avon, NY

Gentec Manufacturing Inc., San Jose, CA

Geometric Tool & Machine Co., Inc., Piedmont, SC

George Welsch & Son Company, Cleveland, OH

German Machine, Inc., Rochester, NY

Germantown Tool & Machine, Works, Inc., Huntingdon Valle, PA

Gibbs Die Casting Corporation, Henderson, KY

Gibbs Machine Company, Inc., Greensboro, NC

Gilbert Machine & Tool Company, Greene, NY

Gill Tool & Die, Inc., Grand Rapids, MI

Gillette Machine & Tool Co Inc., Rochester, NY

Girard Tool & Die/Jackburn Mfg., Inc., Girard, PA

Gischel Machine Company Inc., Baltimore, MD

Givmar Precision Machining, Mountain View, CA

Glaze Tool & Engineering, Inc., New Haven, IN

Glendale Machine Company, Inc., Solon, OH

Glendo Corporation, Emporia, KS

Glidden Machine & Tool, Inc., North Tonawanda, NY

Global Precision, Inc., Davie, FL

Global Shop Solutions, The Woodlands, TX

Godwin—SBO, L.P., Houston, TX

Golis Machine, Inc., Montrose, PA

Graham Tech Inc., Cochranton, PA

Grand Valley Manufacturing, Company, Titusville, PA

Graybill's Tool & Die, Inc., Manheim, PA

Great Lakes E.D.M. Inc., Clinton Twp., MI

Great Lakes Metal Treating, Inc., Tonawanda, NY

Great Lakes Tooling Inc., Cleveland, OH

Great Western Grinding & Eng., Inc., Huntington Beach, CA

Grind-All Precision Tool Co., Inc., Clinton Township, MI

Grind-All, Inc., Cleveland, OH

Grindworks Inc., Glendale, AZ

Grosmann Precision, Ballwin, MO

Grover Gundrilling, Inc., Norway, ME

Guill Tool & Engineering Co., Inc., West Warwick, RI

Gulf South Machine/Drilex Corp., Houston, TX

Gurney Precision Machining, Saint Petersburg, FL

Gustav's Tool & Die, Inc., Seguin, TX

H & H Machine Company, Whittier, CA

H & H Machine Shop of Akron, Inc., Akron, OH

H & H Machined Products, Inc., Erie, PA

H & K Machine Service Co. Inc., O'Fallon, MO

H & M Machining Inc., Machesney Park, IL

H & M Precision Machining, Santa Clara, CA

H & W Machine Company, Broomfield, CO

H & W Tool Company, Inc., Dover, NJ

H B Machine, Inc., Phoenix, AZ

H Brauning Company, Inc., Manassas, VA

H D & K Mold Company, Inc., Hilton, NY

H H Mercer, Inc., Mesquite, TX

H R M Machine, Inc., Costa Mesa, CA

Haberman Machine, Inc., St. Paul, MN

Haig Precision Mfg. Corp., Campbell, CA

Hal-West Technologies, Inc., Kent, WA

Hamblen Gage Corporation, Indianapolis, IN

Hamill Manufacturing Company, Trafford, PA

Hamilton Mold & Machine, Inc., Cleveland, OH

Hamilton Tool Company, Inc., Meadville, PA

Hammill Manufacturing Company, Toledo, OH

Hammon Precision Technologies, Hayward, CA

Hanover Machine Company, Ashland, VA

Hans Rudolph, Inc., Kansas City, MO

Hansen Engineering, Harbor City, CA

Hanson Mold, St. Joseph, MI

Hardy Machine Inc., Hatfield, PA

Hardy-Reed Tool & Die Co., Manitou Beach, MI

Haumiller Engineering Company, Elgin, IL

Hawkeye Precision, Inc., Gilbert, AZ

Hawkins Machine Company, Inc., Coventry, RI

Hawkinson Mold Engineering Co., Alhambra, CA

Hayden Corporation, West Springfield, MA

Heatherington Machine Corp., Orlando, FL

Heinhold Engineering & Machine, Co., Inc., Salt Lake City, UT

Heitz Machine & Manufacturing, Co., Maryland Heights, MO

Hellebusch Tool & Die, Inc., Washington, MO

Helm Precision, Ltd., Phoenix, AZ

Henman Engineering & Machine, Muncie, IN

Hercules Machine Tool & Die, Warren, MI

Herman Machine, Inc., Tallmadge, OH

Herrick & Cowell Company, Hamden, CT

Hetrick Mfg., Inc., Lower Burrell, PA

Heyden Mold & Bench Company, Tallmadge, OH

Hi Tech Manufacturing, LLC, Greensboro, NC

Hi-Tech Machining & Engineering LLC, Tucson, AZ

Hi-Tech Tool Industries, Inc., Sterling Heights, MI

Hiatt Metal Products Company, Muncie, IN

Hickory Machine Company, Inc., Newark, NY

High-Tech Industries, Holland, MI

Highland Mfg. Inc., Manchester, CT

Hill Engineering, Inc., A Mestek Co., Villa Park, IL

Hillcrest Precision Tool Co. Inc., Haverhill, MA

Hillcrest Tool & Die, Inc., Titusville, PA

Hilton Tool & Die Corporation, Rochester, NY

Hittle Machine & Tool Company, Indianapolis, IN

Hobson & Motzer, Inc., Durham, CT

Hodon Manufacturing Inc., Willoughby, OH

Hoffman Custom Tool & Die, Newport Beach, CA

Hoffstetter Tool & Die, Clearwater, FL

Holland USA, Muskegon, MI

Hollis Line Machine Co., Inc., Hollis, NH

Holmes Manufacturing Corporation, Cleveland, OH

Homeyer Tool and Die Co., Marthasville, MO

Hoppe Tool, Inc., Chicopee, MA

Horizon Industries, Columbia, PA

Howard Tool Co. Inc., Bangor, ME

Hubbell Machine Company, Inc., Cleveland, OH

Humboldt Instrument Company, San Leandro, CA

Hunt Machine & Manufacturing Co., Tallmadge, OH

Hyde Special Tools, Saegertown, PA

Hydrodyne Division of FPI, Inc., Burbank, CA

Hydromat, Inc., St. Louis, MO

Hygrade Precision Technologies, Inc., Plainville, CT

Hytron Manufacturing Company, Inc., Huntington Beach, CA

Ideal Grinding Technologies, Inc, Chatsworth, CA

Ideal Tool Co. Inc., Meadville, PA

Imperial Die & Manufacturing Co., Strongsville, OH

Imperial Machine & Tool Company, Wadsworth, OH

Imperial Mfg., Santa Fe Springs, CA

Imperial Newbould, Meadville, PA

Imperial Tool & Manufacturing Co., Inc., Lexington, KY

Indiana Tool & Die Company, Die Sets Inc., Indiana, PA

Industrial Babbitt Bearing, Services, Inc., Gonzales, LA

Industrial Custom Automatic Machine (ICAM), Dayton, OH

Industrial Grinding, Inc., Dayton, OH

Industrial Machine & Tool Co., Inc., Nashville, TN

Industrial Machine Company, Oklahoma City, OK

Industrial Maintenance, & Electrical Corporation, Lavergne, TN

Industrial Mold + Machine, Twinsburg, OH

Industrial Molds, Inc., Rockford, IL

Industrial Precision Products, Inc., Oswego, NY

Industrial Tool & Machine Co., Cuyahoga Falls, OH

Industrial Tool, Die &, Engineering, Inc., Tucson, AZ

Industrial Tooling Technologies, Inc., Muskegon, MI

Ingersoll Contract Manufacturing, Company, Rockford, IL

Injection Mold & Machine Company, Akron, OH

Inland Tool & Manufacturing Co., Kansas City, KS

Inline Inc., Phoenix, AZ

Innex Industries, Inc., Rochester, NY

Integrated Aerospace, Santa Ana, CA

Integrated Fabrication and Machine, Sharpsville, PA

Integrated Machine Systems, Bethel, CT

Integrity Mfg. L.L.C., Farmington, CT

International Stamping Inc., Warwick, RI

Intrex Corporation, Louisville, CO

Iverson Industries, Inc., Wyandotte, MI

IDRAPRINCE, Holland, MI

ILM Tool, Inc., Hayward, CA

IMS, Inc., Decatur, AL

ISO Machining, Inc., Pleasanton, CA

ISYS Manufacturing, Inc., Concord, CA

ITM, Schertz, TX

J & A Tool Company, Inc., Franklin, PA

J & F Machine Inc., Cypress, CA

J & G Machine & Tool Co., Inc., Walworth, NY

J & J Tool Co., Inc., Louisville, KY

J & M Machine, Inc., Fairport Harbor, OH

J & M Unlimited, Ashland City, TN

J B Tool Die & Engineering, Inc., Fort Wayne, IN

J B Tool, Inc., Placentia, CA

J C B Precision Tool & Mold, Inc., Commerce City, CO

J D Kauffman Machine Shop, Inc., Christiana, PA

J F Fredericks Tool Company, Inc., Farmington, CT

J I Machine Company, Inc., San Diego, CA

J K Tool & Die, Inc., Apollo, PA

J M Mold South, Easley, SC

J M Mold, Inc., Piqua, OH

J M P Industries, Inc., Cleveland, OH

J M S Mold & Engineering Co., Inc., South Bend, IN

J S Die & Mold, Inc., Byron Center, MI

J W Harwood Company, Cleveland, OH

J.B.A.T. t/a Cherry Hill, Precision, Cherry Hill, NJ

Jacksonville Machine Inc., Jacksonville, IL

Jaco Engineering, Anaheim, CA

Jaquith Carbide Corporation, Ipswich, MA

Jasco Tools Inc., Cutting Tools Division, Rochester, NY

Jatco Machine & Tool Company, Inc., Pittsburgh, PA

Jena Tool Corporation, Dayton, OH

Jenkins Machine, Inc., Bethlehem, PA

Jennison Corporation, Carnegie, PA

Jergens Tool and Mold, Englewood, OH

Jergens, Inc., Cleveland, OH

Jesse Industries, Inc., Sparks, NV

Jet Products Co., Inc., Phoenix, AZ

Jet Products, Inc., East Bridgewater, MA

Jewett Machine Mfg. Co., Inc., Richmond, VA

Jig Grinding Service Company, Cleveland, OH

Jirgens Modern Tool Corporation, Kalamazoo, MI

JobBOSS Software/Exact, Edina, MN

Johnson Engineering Company, Indianapolis, IN

Johnson Precision, Inc., Buffalo, NY

Johnson Tool, Inc., Fairview, PA

Joint Production Technology, Inc., Macomb, MI

Joint Venture Acquisition Co., LLC, Saegertown, PA

Jonco Tool Company, Racine, WI

Juell Machine Company, Inc., Pomona, CA

JBK Manufacturing & Development, Co., Dayton, OH

J2 Precision CNC, Inc., Phoenix, AZ

K & E Mfg. Company, Lee's Summit, MO

K & H Mold & Machine Division, Akron, OH

K & H Precision Products, Inc., Honeoye Falls, NY

K & M Machine-Fabricating, Inc., Cassopolis, MI

K & S Tool & Die, Inc., Meadville, PA

K & S Tool & Mfg. Company, Inc., Jamestown, NC

K L H Industries, Inc., Germantown, WI

K M S Machine Works, Inc., Taunton, MA

K Mold & Engineering, Inc., Granger, IN

K V, Inc., Huntingdon Valle, PA

K.C.K. Tool & Die Co., Inc., Ferndale, MI

K-Form, Inc., Tustin, CA

Ka-Wood Gear & Machine Company, Madison Heights, MI

Kahre Brothers, Inc., Evansville, IN

Kalman Manufacturing, Morgan Hill, CA

Kansas City Screw Products Inc., Kansas City, MO

Karlee, Garland, TX

Karsten Precision, Phoenix, AZ

Kaskaskia Tool & Machine, Inc., New Athens, IL

Kaufhold Machine Shop, Inc., Lancaster, PA

Kearflex Engineering Company, Warwick, RI

Keck-Schmidt Tool & Die, South El Monte, CA

Kell-Strom Tool Company, Inc., Wethersfield, CT

Kellems & Coe Tool Corporation, Jeffersonville, IN

Keller Technology Corporation, Tonawanda, NY

Kelley Industries, Inc., Eighty Four, PA

Kelly & Thome, Pomona, CA

Kelm Acubar Company, Benton Harbor, MI

Kem-Mil-Co, Hayward, CA

Kemco Tool & Machine Company, Kirkwood, MO

Kenlee Precision Corporation, Baltimore, MD

Kennametal Inc., Latrobe, PA

Kennebec Tool & Die Co., Inc., Augusta, ME

Kennedy & Bowden Machine Company, La Vergne, TN

Kennick Mold & Die, Inc., Cleveland, OH

Kentucky Machine & Tool Company, Louisville, KY

Kern Special Tools Company, Inc., New Britain, CT

Keyes Machine Works, Inc., Gates, NY

Keystone Machine, Inc., Littlestown, PA

Kimberly Gear & Spline, Inc., Phoenix, AZ

King Machine & Engineering Co., Inc., Indianapolis, IN

King Systems Corporation, Plastics Technology Division, Noblesville, IN

Klein Steel Service, Inc., Rochester, NY

Knight Industries Precision Machining, Inc., Corona, CA

Knowlton Manufacturing Company, Norwood, OH

Knust—S B O, Houston, TX

Kordenbrock Tool & Die Company, Cincinnati, OH

Kovacs Machine & Tool Company, Inc., Wallingford, CT

Krause Tool, Inc., A-Z Corp. Div. of Krause Tool, Golden, CO

Kuhn Tool & Die Co., Meadville, PA

Kurt J. Lesker Company, Clairton, PA

L & L Machine, Inc., Ludlow, MA

L & L Tool & Die, Gardena, CA

L & P Machine, Inc., Santa Clara, CA

L A I Southwest, Inc., Phoenix, AZ

L H Carbide Corporation, Fort Wayne, IN

L P I Corporation, Hollywood, FL

L R G Corporation, Jeannette, PA

L R W Cutting Tools, Inc., Phoenix, AZ

L T L Company, Inc., Rockford, IL

L. P. Engineering Co., Carson, CA

Lake Manufacturing Co., Inc., Newburyport, MA

Lakeside Manufacturing Company, Stevensville, MI

Lamb Machine & Tool Company, Indianapolis, IN

Lamina, Inc., Farmington Hills, MI

Lampin Corporation, Uxbridge, MA

Lancaster Machine Shop, Lancaster, TX

Lancaster Metal Products Company, Lancaster, OH

Lancaster Mold, Inc., Lancaster, PA

Land Specialties Manufacturing Co., Inc., Raytown, MO

Lane Enterprise, Rochester, NY

Lane Punch Corporation, Salisbury, NC

Laneko Engineering Company, Ft. Washington, PA

Laneko Roll Form, Inc., Hatfield, PA

Lange Precision, Inc., Fullerton, CA

Langenau Manufacturing Company, Cleveland, OH

Laron Incorporated, Kingman, AZ

Las Cruces Machine Manufacturing &, Engineering, Las Cruces, NM

Laser Automation, Inc., Chagrin Falls, OH

Laser Fabrication & Machine Co., Inc., Alexandria, AL

Laser Tool, Inc., Saegertown, PA

Latva Machine, Inc., Newport, NH

Lavigne Manufacturing, Inc., Cranston, RI

Layke Incorporated, Phoenix, AZ

Layke Tool & Manufacturing, Inc., Meadville, PA

Ledford Engineering Company, Inc., Cedar Rapids, IA

Lee's Grinding, Inc., Cleveland, OH

Leech Industries, Inc., Meadville, PA

Lees Enterprise, Chatsworth, CA

Leese & Co., Inc., Greensburg, PA

Leggett & Platt, Inc., Whittier, CA

Leicester Die & Tool, Inc., Leicester, MA

Lenz Technology Inc., Mountain View, CA

Leonardi Manufacturing Co., Inc., Weedsport, NY

Lewis Aviation, Phoenix, AZ

Lewis Machine & Tool Co. Inc., Cuba, MO

Lewis Machine and Tool Company, Milan, IL

Liberty Precision Industries, Ltd., Rochester, NY

Libra Precision Machining, Tecumseh, MI

Ligi Tool & Engineering, Inc., Deerfield Beach, FL

Lilly Software Associates, Inc., Hampton, NH

Limmco, Inc., New Albany, IN

Linmark Machine Products, Inc., Union, MO

Little Rhody Machine Repair, Inc., Coventry, RI

Littlecrest Machine Shop, Inc., Houston, TX

Lloyd Company, Houston, TX

Lloyd Tool & Manufacturing Corp., Burton, MI

Lobart Company, Pacoima, CA

Loecy Precision Mfg., Mentor, OH

Lordon Engineering, Gardena, CA

Loud Engineering and Manufacturing, Inc., Ontario, CA

Loyal Machine Company, Inc., Chelsea, MA

Luick Quality Gage & Tool, Inc., Muncie, IN

Lunar Tool & Machinery Company, St. Louis, MO

Lunar Tool & Mold, Inc., North Royalton, OH

Lunquist Manufacturing Corp., Rockford, IL

Lux Manufacturing, Inc., Sunnyvale, CA

Lynn Welding Co. Inc., Newington, CT

Lyons Tool & Die Company, Meriden, CT

LOMA Automation Technologies, Inc., Louisville, KY

M & D Loe Manufacturing, Inc., Benicia, CA

M & H Engineering Company, Inc., Danvers, MA

M & H Tool & Die, Inc., Gadsden, AL

M & J Grinding & Tool Co., Holland, OH

M & J Valve Services, Inc., Lafayette, LA

M C Mold & Machine, Inc., Tallmadge, OH

M D F Tool Corporation, North Royalton, OH

M F Engineering Co. Inc., Bristol, RI

M H S Automation, Round Lake Beach, IL

M P E Machine Tool Inc., Corry, PA

M P Technologies, Inc., Brecksville, OH

M S Willett, Inc., Cockeysville, MD

M. R. Mold & Engineering Corp., Brea, CA

M-Ron Corporation, Glendale, AZ

M-Tron Manufacturing Company, Inc., San Fernando, CA

Mac Machine and Metal Works, Inc, Connersville, IN

Mac-Mold Base, Inc., Romeo, MI

Machine Incorporated, Stoughton, MA

Machine Specialties, Inc., Greensboro, NC

Machine Tooling, Inc., Cleveland, OH

Machine Works, Inc., Phoenix, AZ

Machinist Cooperative, Gilroy, CA

MacKay Manufacturing, Spokane, WA

Maddox Metal Works, Inc., Dallas, TX

Magdic Precision Tooling, Inc., East McKeesport, PA

Maghielse Tool Corporation, Grand Rapids, MI

Magna Machine & Tool Company, New Castle, IN

Magnum Manufacturing Center, Inc., Colorado Springs, CO

Magnus Precision Manufacturing, Inc., Phelps, NY

Mahuta Tool Corp., Germantown, WI

Main Tool & Mfg. Co., Inc., Minneapolis, MN

Maine Machine Products, South Paris, ME

Mainline Machine, Inc., Broussard, LA

Majer Precision Engineering, Inc., Tempe, AZ

Major Tool & Machine, Inc., Indianapolis, IN

Makino, Mason, OH

Malmberg Engineering, Inc., Livermore, CA

Manda Machine Company, Inc., Dallas, TX

Manetek, Inc., Broussard, LA

Manheim Special Machine Shop, Manheim, PA

Mann Tool Company, Inc., Pacific, MO

Manufacturing Machine Corp., Pawtucket, RI

Manufacturing Service Corp., West Hartford, CT

Marberry Machine, Inc., Houston, TX

Marco Manufacturing Company, Akron, OH

Mardon Tool & Die Company, Inc., Rochester, NY

Marini Tool & Die Company, Inc., Racine, WI

Marion Tool and Die, Inc., Terre Haute, IN

Maris Systems Design, Inc., Spencerport, NY

Markham Machine Co. Inc., Akron, OH

Marlin Tool, Inc., Cuyahoga Falls, OH

Marox Corporation, Holyoke, MA

Marquette Tool & Die Company, St. Louis, MO

Marshall Manufacturing Company, Minneapolis, MN

Martinelli Machine, San Leandro, CA

Masco Machine, Inc., Cleveland, OH

Massachusetts Machine Works Inc., Westwood, MA

Master Cutting & Engineering, Inc., Santa Fe Springs, CA

Master Industries Inc., Piqua, OH

Master Research & Manufacturing, Inc., Norwalk, CA

Master Tool & Mold, Inc., Grafton, WI

Mastercraft Mold, Inc., Phoenix, AZ

Mastercraft Tool & Machine Co., Inc., Southington, CT

Mastercraft Tool Co., St. Louis, MO

Matthews Gauge, Inc., Santa Ana, CA

Maudlin & Son Manufacturing Co., Inc., Kemah, TX

May Technology & Mfg., Inc., Kansas City, MO

May Tool & Die, Inc., North Royalton, OH

MaTech Machining Technologies, Inc., Hebron, MD

McAfee Tool & Die, Inc., Uniontown, OH

McCurdy Tool & Machine Inc., Caledonia, IL

McGill Manufacturing Company, Flint, MI

McKee Carbide Tool Division, Olanta, PA

McKenzie Automation Systems, Inc., Rochester, NY

McNeal Enterprises, Inc., San Jose, CA

McNeil Industries, Inc., Willoughby, OH

McNeill Manufacturing Company, Oakland, CA

McSwain Manufacturing Corp., Cincinnati, OH

Meadville Plating Company, Inc., Meadville, PA

Meadville Tool Grinding, Meadville, PA

Mechanical Drive Components, Inc., Chicopee, MA

Mechanical Manufacturing Corp., Sunrise, FL

Mechanical Metal Finishing Co., Gardena, CA

Mechanized Enterprises, Inc., Anaheim, CA

Medved Tool & Die Company, Elm Grove, WI

Menegay Machine & Tool Company, Canton, OH

Mercer Machine Company, Inc., Indianapolis, IN

Merit Gage, Inc., St. Louis Park, MN

Merritt Tool Company, Inc., Kilgore, TX

Metal Form Engineering, Redlands, CA

Metal Processors Inc., Stevensville, MI

Metal-Tek Machining Inc., Phoenix, AZ

Metalcraft, Inc., Tempe, AZ

Metallon, Inc., Thomaston, CT

Metalsa—Perfek, Novi, MI

Metco Manufacturing Company, Inc., Warrington, PA

Metplas, Inc., Natrona Heights, PA

Metric Machining, Monrovia, CA

Metro Manufacturing, Inc., Phoenix, AZ

Metz Tool & Die Works, Rockford, IL

Miami Tool & Die, Inc., Huntington, IN

Micro Facture LLC, Mountville, PA

Micro Instrument Corporation, Boulder City, NV

Micro Manufacturing, Caledonia, MI

Micro Matic Tool, Inc., Youngstown, OH

Micro Precision Company, Houston, TX

Micro Punch & Die Company, Rockford, IL

Micro Surface Engineering, Inc., Bal-tec Division, Los Angeles, CA

Micro Tool & Manufacturing, Inc., Meadville, PA

Micro-Tronics, Inc., Tempe, AZ

Mid-Central Manufacturing, Inc., Wichita, KS

Mid-Conn Precision Manufacturing LLC, Bristol, CT

Mid-Continent Engineering, Inc., Minneapolis, MN

Mid-State Manufacturing, Inc., Milldale, CT

Mid-States Forging Die & Tool, Co., Inc., Rockford, IL

Midland Precision Machining, Inc., Tempe, AZ

Midway Mfg. Inc., Elyria, OH

Midwest Tool & Die Corporation, Fort Wayne, IN

Midwest Tool & Engineering Co., Dayton, OH

Mikron Machine, Inc., Cranesville, PA

Milco Wire EDM, Inc., & Milco Waterjet, Huntington Beach, CA

Millat Industries Corp., Dayton, OH

Miller Equipment Corporation, Richmond, VA

Miller Mold Company, Saginaw, MI

Milrose Industries, Cleveland, OH

Milwaukee Precision Corporation, Milwaukee, WI

Milwaukee Punch Corporation, Greendale, WI

Minco Tool & Mold Inc., Dayton, OH

Mission Tool & Manufacturing Co., Inc., Hayward, CA

Mitchell Machine, Inc., Springfield, MA

Mitchum Schaefer, Inc., Indianapolis, IN

Mittler Brothers Machine & Tool, Division-Mittler Corporation, Foristell, MO

Mod Tech Industries, Inc., Shawano, WI

Model Machine Company, Inc., Baltimore, MD

Modern Industries Inc., Phoenix, AZ

Modern Machine Company, San Jose, CA

Modern Machine Company, Bay City, MI

Modern Technologies Corp., Xenia, OH

Mold Threads Inc., Branford, CT

Moldcraft, Inc., Depew, NY

Moldesign, Inc., Knoxville, TN

Monks Manufacturing Co., Inc., Wilmington, MA

Monroe Tool & Die Co., Rochester, NY

Monsees Tool & Die, Inc., Rochester, NY

Montgomery Machine Company, Houston, TX

Moon Tool & Die Inc., Conneaut Lake, PA

Moore Gear Mfg. Co., Inc., Hermann, MO

Moore Quality Tooling, Inc., Dayton, OH

Moore's Ideal Products, Covina, CA

Morlin Incorporated, Erie, PA

Morris Machine Co., Inc., Indianapolis, IN

Morton & Company, Inc., Wilmington, MA

Moseys' Production Machinists Inc., Anaheim, CA

Mound Laser and Photonics Center, Miamisburg, OH

Mountain States Automation, Inc., Englewood, CO

Mueller Machine & Tool Company, Berkeley, MO

Muller Tool Inc., Cheektowaga, NY

Multi-Tool, Inc., Saegertown, PA

Mutual Precision, Inc., West Springfield, MA

Mutual Tool & Die, Inc., Dayton, OH

Myers Industries, Akro-Mils Division, Akron, OH

Myers Precision Grinding Company Inc., Warrensville Hts, OH

Myles Tool Co., Inc., Sanborn, NY

MCD Plastics & Manufacturing Inc., Piqua, OH

MCTD, Inc., Michigan City, IN

MKR Fabricators, Saginaw, MI

MPC Industries, Inc., Irvine, CA

MRC Technologies, Buffalo, NY

N C Dynamics, Inc., Long Beach, CA

N E T & Die Company, Inc., Fulton, NY

Nashville Machine Company, Inc., Nashville, TN

National Carbide Die, McKeesport, PA

National Jet Company, Inc., LaVale, MD

National Tool & Machine Co. Inc., East St. Louis, IL

Nationwide Precision Products, Corp., Rochester, NY

Nelson Bros. & Strom Co., Inc., Racine, WI

Nelson Engineering, Garden Grove, CA

Nelson Grinding, Inc., Fullerton, CA

Nelson Precision Drilling Co., Glastonbury, CT

Nerjan Development Company, Stamford, CT

Neutronics, Inc., Phoenix, AZ

New Century Fabricators, Inc., New Iberia, LA

New England Die Co., Inc., Waterbury, CT

New England Precision Grinding, Inc., Holliston, MA

New Standard Corporation, York, PA

Newman Machine Company, Inc., Greensboro, NC

Niagara Punch & Die Corporation, Buffalo, NY

Nifty Bar, Inc., Penfield, NY

Niles Machine & Tool Works, Inc., Livermore, CA

Nixon Tool Co., Inc., Richmond, IN

Noble Tool Corporation, Dayton, OH

Norbert Industries, Inc., Sterling Heights, MI

Nordon Tool & Mold, Inc., Rochester, NY

Noremac Manufacturing Corp., Westboro, MA

Norman Noble, Inc., Cleveland, OH

North Canton Tool Company, Inc., Canton, OH

North Central Tool & Die, Inc., Houston, TX

North Coast Tool & Mold Corp., Cleveland, OH

North Easton Machine Co., Inc., North Easton, MA

Northeast E D M, Newburyport, MA

Northeast Manufacturing Co., Inc., Stoneham, MA

Northeast Tool & Manufacturing, Co., Indian Trail, NC

Northern Machine Tool Company, Muskegon, MI

Northern Tool & Gage, Inc., North Royalton, OH

Northwest Machine Works, Inc., Grand Junction, CO

Northwest Tool & Die Company, Inc., Grand Rapids, MI

Northwest Tool & Die, Inc., Meadville, PA

Northwood Industries, Inc., Perrysburg, OH

Norwood Tool Company, Dayton, OH

Now-Tech Industries Inc., Lackawanna, NY

Nu-Tech Industries, Grandview, MO

Nu-Tool Industries, Inc., North Royalton, OH

Numeric Machine, Fremont, CA

Numeric Machining Co., Inc., West Springfield, MA

Numerical Concepts, Inc., Terre Haute, IN

Numerical Precision, Inc., Wheeling, IL

Numerical Productions, Inc., Indianapolis, IN

Numet Machine, Stratford, CT

NuTec Tooling Systems, Inc., Meadville, PA

O & S Machine Company, Inc., Latrobe, PA

O-A, Inc., Agawam, MA

O E M Industries, Inc., Dallas, TX

O E M, Inc., Corvallis, OR

O-D Tool & Cutter Inc., Mansfield, MA

O'Keefe Ceramics, Woodland Park, CO

Oakley Die & Mold Company, Inc., Mason, OH

Obars Machine & Tool Company, Toledo, OH

Oberg Industries Inc., Freeport, PA

Oconee Machine & Tool Company, Inc., Westminster, SC

Oconnor Engineering Laboratories, Costa Mesa, CA

Ohio Gasket & Shim Company, Akron, OH

Ohio Transitional Machine & Tool, Inc., Toledo, OH

Oilfield Die Manufacturing Co., Lafayette, LA

Omax Corporation, Kent, WA

Omega One, Inc., Maple Heights, OH

Omega Tool, Inc., Menomonee Falls, WI

Omni Machine Works, Inc., Covington, GA

Omni Tool, Inc., Winston Salem, NC

Optimized EDM, Santa Clara, CA

Osborn Products, Inc., Phoenix, AZ

Overland Bolling, Dallas, TX

Overton & Sons Tool & Die Co. Inc., Mooresville, IN

Overton Corporation, Willoughby, OH

P & A Tool & Die, Inc., Rochester, NY

P & N Machine Company, Inc., Houston, TX

P & P Mold & Die, Inc., Tallmadge, OH

P & R Industries, Inc., Rochester, NY

P I A Group, Inc., Cincinnati, OH

P. Tool & Die Company, Inc., N. Chili, NY

P-K Tool & Manufacturing Company, Chicago, IL

Pacific Bearing Company, Rockford, IL

Pacific Tool & Die, Inc., Brunswick, OH

Pahl Tool Services, Cleveland, OH

Palma Tool & Die Company, Inc., Lancaster, NY

Palmer Machine Company Inc., Conway, NH

Palmer Manufacturing Company, Malden, MA

Pankl Aerospace Systems, Cerritos, CA

Parallax, Inc., Largo, FL

Paramount Machine & Tool Corp., Fairfield, NJ

Parker Plastics Corporation, Pittsburgh, PA

Parr-Green Mold and Machine Co., North Canton, OH

Parris Tool & Die Company, Goodlettsville, TN

Parrish Machine, Inc., South Bend, IN

Pasco Tool & Die, Inc., Meadville, PA

Patco Machine & Fab, Inc., Houston, TX

Path Technologies, Inc., Mentor, OH

Patkus Machine Company, Rockford, IL

Patriot Machine, Inc., St. Charles, MO

Patten Tool & Engineering, Inc., Kittery, ME

Paul E. Seymour Tool & Die Co., North East, PA

Peerless Precision, Inc., Westfield, MA

Pegasus/Triumph Manufacturing, Inc., East Berlin, CT

Peko Precision Products, Rochester, NY

Pell Engineering & Manufacturing, Inc., Pelham, NH

Penco Precision, Fontana, CA

Pendarvis Manufacturing, Anaheim, CA

Pendleton Tool Company, Inc., Erie, PA

Peninsula Screw Machine Products, Inc., Belmont, CA

Penn State Tool & Die Corp., North Huntingdon, PA

Penn United Tech, Inc., Saxonburg, PA

Pennoyer-Dodge Company, Glendale, CA

Pennsylvania Crusher, Cuyahoga Falls, OH

Pennsylvania Tool & Gages, Inc., Meadville, PA

Pequot Tool & Mfg., Inc., Pequot Lakes, MN

Perfection Tool & Mold Corp., Dayton, OH

Perfecto Tool & Engineering Co., Anderson, IN

Perfekta, Inc., Wichita, KS

Performance Grinding & Manufacturing, Inc., Tempe, AZ

Performance Machining Inc., Irwin, PA

Perry Tool & Research Inc., Hayward, CA

Petersen Precision Engineering, LLC, Redwood City, CA

Peterson Jig & Fixture, Inc., Rockford, MI

Phil-Coin Machine & Tool Co., Inc., Hudson, MA

Philips Machining Company, Inc., Coopersville, MI

Phoenix Grinding, Div. of Cal-Disc Grinding Co., Phoenix, AZ

Phoenix Metallics, Phoenix, AZ

Phoenix Tool & Gage, Inc., Phoenix, AZ

Piece-Maker Company, Troy, MI

Pinnacle Manufacturing Co., Inc., Chandler, AZ

Pinnacle Precision Co., Glassport, PA

Pioneer Industries, Seattle, WA

Pioneer Precision Grinding, Inc., West Springfield, MA

Pioneer Tool & Die Company, Akron, OH

Pioneer Tool & Die, Inc., Meadville, PA

Piper Plastics, Inc., Chandler, AZ

Pitt-Tex, Latrobe, PA

Plano Machine & Instrument Inc., Gainesville, TX

Plastic Mold Technology Inc., Grand Rapids, MI

Plastipak Packaging, Inc., Package Development Plant 67, Medina, OH

Pleasanton Tool and Manufacturing, Inc., Pleasanton, CA

Plesh Industries, Inc., Buffalo, NY

Pol-Tek Industries, Ltd., Cheektowaga, NY

Polytec Products Corporation, Menlo Park, CA

Ponderosa Industries, Inc., Denver, CO

Popp Machine & Tool, Inc., Louisville, KY

Port City Machine & Tool Company, Muskegon Heights, MI

Portage Knife Company, Inc., Mogadore, OH

Post Products, Inc., Kent, OH

Powers Bros. Machine, Inc., Montebello, CA

Powill Manufacturing & Engineering, Inc., Phoenix, AZ

Practical Machine Company, Barberton, OH

Precise Products Corporation, Minneapolis, MN

Precision Aircraft Components, Inc., Dayton, OH

Precision Aircraft Machining, Co., Inc. dba PAMCO, Sun Valley, CA

Precision Automation Co., Inc., Clarksville, IN

Precision Balancing & Analyzing Co., Mentor, OH

Precision Boring Company, Detroit, MI

Precision Components Group, Inc., Fremont, CA

Precision Die & Stamping Inc., Tempe, AZ

Precision Engineering & Mfg. Co., PEMCO, Haymarket, VA

Precision Engineering, Inc., Uxbridge, MA

Precision Gage & Tool Company, Dayton, OH

Precision Gage, Inc., Tempe, AZ

Precision Grinding & Mfg. Corp., Rochester, NY

Precision Grinding Inc., Phoenix, AZ

Precision Grinding, Inc., Birmingham, AL

Precision Identity Corporation, Campbell, CA

Precision Machine & Instrument, Co., Houston, TX

Precision Machine & Tool Co., Longview, TX

Precision Machine Company, Lancaster, PA

Precision Machine Rebuilding, Inc., Rogers, MN

Precision Machine Works, Aiken, SC

Precision Manufacturing, Technologies, Inc., Grand Junction, CO

Precision Metal Crafters, Ltd., Greensburg, PA

Precision Metal Fabrication, Dayton, OH

Precision Metal Tooling, Inc., Oakland, CA

Precision Mold & Engineering, Inc., Warren, MI

Precision Mold Base Corporation, Tempe, AZ

Precision Mold Welding, Inc., Little Rock, AR

Precision Products Inc., Greenwood, IN

Precision Resource, California Division, Huntington Beach, CA

Precision Resource Tool & Machine, Division, Shelton, CT

Precision Resources, Hawthorne, CA

Precision Specialists, Inc., West Berlin, NJ

Precision Specialties, San Jose, CA

Precision Stamping & Tool, Inc., Irvine, CA

Precision Stamping, Inc., Farmers Branch, TX

Precision Technology, Inc., Chandler, AZ

Precision Tool & Mold, Inc., Clearwater, FL

Precision Tool Work, Inc., New Iberia, LA

Precision Wire EDM Service Inc., Grand Rapids, MI

Preferred Tool Company, Inc., Seymour, IN

Prescott Aerospace, Inc., Prescott Valley, AZ

Pressco Products, Kent, WA

Prestige Mold Incorporated, Rancho Cucamonga, CA

Price Products, Inc., Escondido, CA

Pride, dba Pride Industries, Brooklyn Park, MN

Prima Die Castings, Inc., Clearwater, FL

Prime-Co Tool Inc., East Rochester, NY

Primeway Tool & Engineering Co., Div. of Cleary Developments, Inc., Madison Heights, MI

Pro-Mold, Inc., Rochester, NY

Pro-Tech Machine, Inc., Burton, MI

Process Equipment Company, Tipp City, OH

Product Engineering Company, Columbus, IN

Production Machining & Mfg., Dallas, TX

Production Saw Works, Inc., North Hollywood, CA

Production Tool & Mfg. Co., Portland, OR

Producto Machine Company, Bridgeport, CT

Professional Instruments Co., Inc., Hopkins, MN

Professional Machine & Tool Co., Gallatin, TN

Proficient Machining Co., Inc., Mentor, OH

Profile Grinding, Inc., Cleveland, OH

Proformance Manufacturing, Inc., Corona, CA

Progressive Concepts Machining, Pleasanton, CA

Progressive Machine & Design, LLC, Victor, NY

Progressive Metallizing &, Machine Company, Inc., Akron, OH

Progressive Tool & Die, Inc., Meadville, PA

Progressive Tool & Die, Inc., Gardena, CA

Progressive Tool Company, Waterloo, IA

Promax Tool Co., Rancho Cordova, CA

Prompt Machine Products, Inc., Chatsworth, CA

Proper Cutter, Inc., Guys Mills, PA

Proper Mold & Engineering, Inc., Center Line, MI

Proto-Design, Inc., Redmond, WA

Protonics Engineering Corp., Cerritos, CA

ProMold, Inc., Cuyahoga Falls, OH

Puehler Tool Company, Valley View, OH

Pullbrite, Inc., Fremont, CA

PDQ Machine, Inc., Machesney Park, IL

PMR, Inc., Avon, OH

PQ Enterprise, L.L.C., Grand Rapids, MI

PR Machine Works, Inc., Mansfield, OH

Quality Centerless Grinding Corp., Middlefield, CT

Quality Grinding and Machine, Rainbow City, AL

Quality Machine Engineering, Inc., Santa Rosa, CA

Quality Machining Technology, Inc., Oakdale, CA

Quality Machining, Inc., Waunakee, WI

Quality Mold & Engineering, QME Inc., Baroda, MI

Quality Tool & Die Inc., Meadville, PA

Quality Tool Company, Toledo, OH

Quick-Way Stampings, Euless, TX

R & D Machine Shop, Dallas, TX

R & D Specialty/Manco, Phoenix, AZ

R & D Tool & Engineering, Lee's Summit, MO

R & G Precision Tool Inc., Thomaston, CT

R & H Manufacturing Inc., Edwardsville, PA

R & J Tool, Inc., Brookville, OH

R & M Machine Tool, Freeland, MI

R & M Manufacturing Company, Niles, MI

R & M Mold Manufacturing Co., Inc., Bloomsbury, NJ

R & S EDM, Inc., W. Springfield, MA

R & S Redco, Inc., Rockland, MA

R D C Machine, Inc., Santa Clara, CA

R Davis EDM, Anaheim, CA

R E F Machine Company, Inc., Middlefield, CT

R F Cook Manufacturing Co., Stow, OH

R G F Machining Technologies, Canon City, CO

R J S Corporation, Akron, OH

R M I, Van Nuys, CA

R S Precision Industries, Inc., Farmingdale, NY

R T R Slotting & Machine Inc., Cuyahoga Falls, OH

R. W. Machine, Inc., Houston, TX

R. W. Smith Company, Inc., Dallas, TX

Rainbow Tool & Machine Co., Inc., Gadsden, AL

Raloid Corporation, Reisterstown, MD

Ralph Stockton Valve Products, Inc., Houston, TX

Ram Tool, Inc., Grafton, WI

Rapid-Line Inc., Grand Rapids, MI

Rapidac Machine Corporation, Rochester, NY

Ratnik Industries, Inc., Victor, NY

Rawlings Engineering, Macon, GA

Re-Del Engineering, Campbell, CA

Realco Diversified, Inc., Meadville, PA

Reardon Machine Co., Inc., St. Joseph, MO

Reata Engineering & Machine, Works, Inc., Englewood, CO

Reber Machine & Tool Company, Muncie, IN

Reed Instrument Company, Houston, TX

Reese Machine Company, Inc., Ashtabula, OH

Reg-Ellen Machine Tool Corp., Rockford, IL

Reichert Stamping Company, Toledo, OH

Reitz Tool, Inc., Cochranton, PA

Reko International Sales, Inc., Troy, MI

Reliable EDM, Inc., Houston, TX

Remarc Manufacturing Inc., Hayward, CA

Remmele Engineering, Inc., New Brighton, MN

Reny & Company Inc., El Monte, CA

Repairtech International, Inc., Van Nuys, CA

Republic Industries, Louisville, KY

Republic-Lagun, Carson, CA

Research Tool Inc., East Haven, CT

Reuther Mold & Manufacturing Co., Attn: Accounts Payable, Cuyahoga Falls, OH

Reynolds Manufacturing Co., Inc., Rock Island, IL

Rheaco Inc., Grand Prairie, TX

Rhode Island Centerless, Inc., Johnston, RI

Rich Tool & Die Company, Scarborough, ME

Richard Manufacturing Company, Inc., Milford, CT

Richard Tool & Die Corporation, New Hudson, MI

Richard's Grinding, Inc., Cleveland, OH

Richards Machine Tool Company, Inc., Lancaster, NY

Richsal Corporation, Elyria, OH

Rick Sanford Machine Company, San Leandro, CA

Rickman Machine Company, Wichita, KS

Rid-Lom Precision Tool Corp., Rochester, NY

Ridge Machine & Welding Company, Toronto, OH

Riggins Engineering, Inc., Van Nuys, CA

Right Tool & Die, Inc., Toledo, OH

Rite-Way Industries Inc., Louisville, KY

Riverview Machine Company, Inc., Holyoke, MA

Riviera Tool Company, Grand Rapids, MI

Robert C. Reetz Company, Inc., Pawtucket, RI

Robert C. Weisheit Co., Franklin Park, IL

Roberts Tool & Die Company, Chillicothe, MO

Roberts Tool Company, Inc., Chatsworth, CA

Robrad Tool & Engineering, Mesa, AZ

Rochester Automated Systems, Inc., Rochester, NY

Rochester Gear, Inc., Rochester, NY

Rochester Manufacturing, Wellington, OH

Rochester Precision Machine, Inc., Rochester, MN

Rockburl Industries Inc., Rochester, NY

Rockford Process Control, Inc., Rockford, IL

Rockford Tool & Manufacturing Co., Rockford, IL

Rockford Toolcraft, Inc., Rockford, IL

Rockhill Machining Industries Inc., Barberton, OH

Rockstedt Tool & Die, Brunswick, OH

Rocon Manufacturing Corporation, Rochester, NY

Rogers Enterprises, Rochester, NY

Roll Kraft, Mentor, OH

Romold Inc., Rochester, NY

Ron Grob Company, Loveland, CO

Ronart Industries, Inc., Detroit, MI

Ronlen Industries, Inc., Brunswick, OH

Rons Racing Products, Inc., Tucson, AZ

Royalton Manufacturing, Inc., Cleveland, OH

Royster's Machine Shop, LLC, Henderson, KY

Rozal Industries, Inc., Farmingdale, NY

Ruoff & Sons, Inc., Runnemede, NJ

Ryan Industries Inc., York, PA

RRR Development Co., Inc., North Canton, OH

RTS Wright Industries, Nashville, TN

RTS Wright Industries, LLC, Gilbert, AZ

S & B Tool & Die Co., Inc., Lancaster, PA

S & R Tool Inc., Lakeville, NY

S C Manufacturing, Akron, OH

S G S Tool Company, Munroe Falls, OH

S L P Machine, Inc., Ham Lake, MN

S. C. Machine, Chatsworth, CA

Sabre Machining Center, Inc., Dayton, OH

Saeilo Manufacturing Industries, Blauvelt, NY

Sage Machine & Fabricating, Houston, TX

Sagehill Engineering, Inc., Menlo Park, CA

Saliba Industries, Inc., Lake Forest, IL

Sanders Tool & Mould Company, Hendersonville, TN

Sandor Tool & Manufacturing Co., Lawrence, MA

Satran Technical Enterprises, Mayer, AZ

Sattler Machine Products, Inc., Sharon Center, OH

Sawing Services Co., Chatsworth, CA

Sawtech, Lawrence, MA

Schaffer Grinding Company, Inc., Montebello, CA

Scheu & Kniss, The Elizabeth Companies, Louisville, KY

Schill Corp., Toledo, OH

Schmald Tool & Die Inc., Burton, MI

Schmiede Corporation, Tullahoma, TN

Schmitt Machine, Inc., Ventura, CA

Schneider & Marquard, Inc., Newton, NJ

Schuetz Tool & Die, Inc., Hiawatha, KS

Schulze Tool Company, Independence, MO

Schwab Machine, Inc., Sandusky, OH

Schwartz Industries, Inc., Warren, MI

Scientiam Machine Co., Harbor City, CA

Seaway Industrial Products, Inc., Erie, PA

Sebewaing Tool & Engineering Co., Sebewaing, MI

Select Manufacturing Company, Rainbow City, AL

Select Tool & Die—Tool Div., Dayton, OH

Select Tool & Eng., Inc., Elkhart, IN

Select Tool and Die, Toledo, OH

SelfLube, Coopersville, MI

Selzer Tool & Die, Inc., Elyria, OH

Sematool Mold & Die Co., Santa Clara, CA

Serrano Industries Inc., Santa Fe Springs, CA

Service Manufacturing and, Engineering, Norwalk, CA

Service Tool & Die, Inc., Henderson, KY

Setters Tools, Inc., Piedmont, SC

Sharon Center Mold & Die, Sharon Center, OH

Shaw Industries, Inc., Franklin, PA

Shear Tool, Inc., Saginaw, MI

Sheets Tool & Manufacturing, Inc., Saegertown, PA

Shelby Engineering Company, Inc., Indianapolis, IN

Sherer Manufacturing Incorporated, Clearwater, FL

Sherman Tool & Gage, Erie, PA

Shookus Special Tools, Inc., Raymond, NH

ShopTech Industrial Software Corp., Cincinnati, OH

Sibley Machine & Foundry Corp., South Bend, IN

Signal Machine Company, New Holland, PA

Silicon Valley Mfg., Fremont, CA

Sipco Molding Technologies, Meadville, PA

Sirois Tool Co. Inc., Berlin, CT

Six Sigma, Louisville, KY

Ski-Way Machine Products Company, 24460 Lakeland Blvd., Euclid, OH

Skillcraft Machine Tool Company, West Hartford, CT

Skulsky, Inc., Gardena, CA

Skyline Manufacturing Corp., Nashville, TN

Skylon Mold & Machining, Sugar Grove, PA

Smith-Renaud, Inc., Cheshire, CT

Smith's Machine, Cottondale, AL

Smithfield Manufacturing, Inc., Clarksville, TN

Snyder Systems, Benicia, CA

Solar Tool & Die, Inc., Kansas City, MO

Sonic Machine & Tool, Inc., Tempe, AZ

Sonoma Precision Mfg. Co., Santa Rosa, CA

Sonora Precision Molds, Inc., Mi Wuk Village, CA

South Bend Form Tool Company, South Bend, IN

South Eastern Machining, Inc., Pelzer, SC

Southampton Manufacturing, Inc., Feasterville, PA

Southeastern Technology, Inc., Murfreesboro, TN

Southern Manufacturing Technologies Inc., Tampa, FL

Southwest Mold, Inc., Tempe, AZ

Space City Machine & Tool Co., Houston, TX

Spalding & Day Tool & Die Co., Louisville, KY

Spark Technologies, Inc., Schenley, PA

Spartak Products Inc., Houston, TX

Specialty Machine & Hydraulics, Pleasantville, PA

Speed Precision Machining, Phoenix, AZ

Spenco Machine & Manufacturing, Temecula, CA

Spex Precision Machine Technologies, Rochester, NY

Spike Industries, North Lima, OH

Spiral Grinding Company, Culver City, CA

Springfield Manufacturing, LLC, Clover, SC

Springfield Tool & Die, Inc., Greenville, SC

Spun Metals, Inc., A Deakins Co., Brazil, IN

Standard Die Supply of Indiana, Inc., Indianapolis, IN

Standard Jig Boring Service, Inc., Akron, OH

Standard Machine Inc., Cleveland, OH

Standard Welding & Steel, Products, Inc., Medina, OH

Stanek Tool Corporation, New Berlin, WI

Stanley Machining & Tool Corp., Carpentersville, IL

Star Precision Products, Mentor, OH

Star Tool & Die, Inc., Elkhart, IN

Starn Tool & Manufacturing Co., Meadville, PA

State Industrial Products, Inc., Phoenix, AZ

Stauble Machine & Tool Company, Louisville, KY

Stelted Manufacturing, Inc., Tempe, AZ

Sterling Engineering Corporation, Winsted, CT

Sterling Tool Company, Racine, WI

Stevens Manufacturing Co., Inc., Milford, CT

Stewart Manufacturing Company, Phoenix, AZ

Stillion Industries, Ann Arbor, MI

Stillwater Technologies, Inc., Troy, OH

Stonewall Jackson Mold Inc., Annville, KY

Stoney Crest Regrind Service, Inc., Bridgeport, MI

Streamline Tooling Systems, Muskegon, MI

Strobel Machine, Inc., Worthington, PA

Stuart Tool & Die, Falconer, NY

Studwell Engineering, Inc., Sun Valley, CA

Subsea Ventures Inc., Houston, TX

Suburban Manufacturing Company, Eastlake, OH

Summit Machine Company, Scottdale, PA

Summit Precision, Inc., Phoenix, AZ

Sun EDM Inc., Gilbert, AZ

Sunbelt Plastics, Inc., Frisco, TX

Sunrise Tool & Die, Inc., Henderson, KY

Sunset Tool Inc., Saint Joseph, MI

Super Finishers II, Phoenix, AZ

Superbolt, Inc., Carnegie, PA

Superior Die Set Corporation, Oak Creek, WI

Superior Die Tool Machine Co., Columbus, OH

Superior Gear Box Company, Stockton, MO

Superior Jig, Inc., Anaheim, CA

Superior Mold Company, Ontario, CA

Superior Thread Rolling Company Inc, Arleta, CA

Superior Tool & Die Company, Bensalem, PA

Superior Tool & Die Company, Inc., Elkhart, IN

Superior Tool, Inc., Willow Street, PA

Supreme Tool and Die Company, Fenton, MO

Surface Manufacturing, Auburn, CA

Swiss Wire E D M, Costa Mesa, CA

Swissco, Inc., Bell Gardens, CA

Synergis Technologies Group, Grand Rapids, MI

Syst-A-Matic Tool & Design, Meadville, PA

Systems 3, Inc., Tempe, AZ

STADCO, Los Angeles, CA

STM Manufacturing, Holland, MI

T & S Industrial Machining Corp., Woburn, MA

T J Tool and Mold, Guys Mills, PA

T M Machine & Tool, Inc., Toledo, OH

T M S Inc., Technical Machining Services, Inc., Lincoln, RI

T R Jones Machine Company, Inc., Crystal Lake, IL

T. J. Karg Company, Inc., Akron, OH

T-K & Associates, Inc., La Porte, IN

T-M Manufacturing Corporation, Sunnyvale, CA

Talbar, Inc., Meadville, PA

Talent Tool & Die, Inc., Berea, OH

Tana Corporation, Toledo, OH

Tanner Oil Tools Inc., Houston, TX

Target Precision, Meadville, PA

Taurus Tool & Engineering, Inc., Muncie, IN

Team Tooling and Design, Incorporated, Shawnee, OK

Tech Industries, Inc., Cleveland, OH

Tech Manufacturing Company, Wright City, MO

Tech Mold, Inc., Tempe, AZ

Tech Tool & Mold, Inc., Meadville, PA

Tech-Etch, Inc., Plymouth, MA

Tech-Machine, Inc., Colorado Springs, CO

Techmetals, Inc., Dayton, OH

Techni-Cast Corporation, South Gate, CA

Techni-Products, Inc., East Longmeadow, MA

Technics 2000 Inc., Olathe, KS

Technodic, Inc., Providence, RI

Tecno Troqueles Industries, Laredo, TX

TecoMetrix, LLC, Tempe, AZ

Tedco, Inc., Cranston, RI

Teke Machine Corp., Rochester, NY

Tell Tool, Inc., Westfield, MA

Tenk Machine & Tool Company, Cleveland, OH

Tennessee Metal Works, Inc., Nashville, TN

Tennessee Tool Corporation, Charlotte, TN

Terrell Manufacturing Inc., Strongsville, OH

Testand Corporation, Pawtucket, RI

Tetco, Inc., Plainville, CT

Teter Tool & Die, Inc., La Porte, IN

Thaler Machine Company, Dayton, OH

The Baughman Group, Louisville, KY

The Bechdon Company, Inc., Upper Marlboro, MD

The Foster Group, Rochester, NY

The Goforth Corp., dba The Machine Shop, Fremont, CA

The Metalworking Group, Inc., Cincinnati, OH

The POM Group, Inc., Auburn Hills, MI

The Ryan Group, Franklin, NJ

The Sullivan Corporation, Hartland, WI

The Timken Company, Specialty Tooling & Rebuilding, Canton, OH

The Will-Burt Company, Orrville, OH

Therm, Inc., Ithaca, NY

Thiel Tool & Engineering Co.,Inc., St. Louis, MO

Thomas Machine Works, Inc., Newburyport, MA

Thornhurst Manufacturing, Inc., Zephyrhills, FL

Three-Way Pattern, Inc., Wichita, KS

ThyssenKrupp Budd Company, Shelbyville, KY

Tipco Punch, Inc., Hamilton, OH

Tipp Machine & Tool, Inc., Tipp City, OH

Titan, Inc., Sturtevant, WI

Toledo Blank, Inc., Toledo, OH

Toledo Molding & Die, Toledo, OH

Tolerance Masters, Inc., Circle Pines, MN

Tomak Precision, Lebanon, OH

Tomco Tool & Die, Inc., Belding, MI

TomKen Tool & Engineering, Inc., Muncie, IN

Tool Gauge & Machine Works, Inc., Tacoma, WA

Tool Mate Corporation, Cincinnati, OH

Tool Specialties Company, Hazelwood, MO

Tool Specialty Company, Los Angeles, CA

Tool Tech Corporation, San Jose, CA

Tool Tech, Inc., Springfield, OH

Tool-Matic Company, Inc., City Of Commerce, CA

Toolcomp Tooling & Components Co., Toledo, OH

Toolcraft of Phoenix, Inc., Glendale, AZ

Toolcraft Products, Inc., Dayton, OH

Toolex, Inc., Houston, TX

Tools Renewal Company, Birmingham, AL

Tools, Inc., Sussex, WI

Top Tool & Die, Inc., Cleveland, OH

Toth Industries, Inc., Toledo, OH

Toth Technologies, Pennsauken, NJ

Tower Tool & Engineering, Inc., Machesney Park, IL

Trace-A-Matic Corporation, Brookfield, WI

Tracer Tool & Die Company Inc., Grand Rapids, MI

Trademark Die & Engineering, Belmont, MI

Tram Tek Inc., Phoenix, AZ

Transmatic Manufacturing, Mesa, AZ

Treblig, Inc., Greenville, SC

Trec Industries, Inc., Brooklyn Heights, OH

Tree City Mold & Machine Co., Inc., Kent, OH

Treffers Precision, Inc., Phoenix, AZ

Tresco Tool, Inc., Guys Mills, PA

Tri Craft, Inc., Middleberg Heigh, OH

Tri-City Machine Products, Inc., Peoria, IL

Tri-City Tool & Die, Inc., Bay City, MI

Tri-Core Mold & Die, Machesney Park, IL

Tri-M-Mold, Inc., Stevensville, MI

Triad Plastic Technologies, Reno, NV

Triangle Tool Company, Erie, PA

Tribond Industries, Inc., Phoenix, AZ

Tricon Machine LLC, Rochester, NY

Tridecs Corporation, Hayward, CA

Trident Precision Manufacturing, Webster, NY

Trimac Manufacturing, Inc., Santa Clara, CA

Trimble Navigation Ltd. Engineering & Construction Division, Huber Heights, OH

Trimetric Specialties, Inc., Newark, CA

Trimline Tool, Inc., Grandville, MI

Trinity Tools, Inc., North Tonawanda, NY

Trio Manufacturing, Inc., Kent, WA

Trio Tool & Die, Inc., Hawthorne, CA

Triple-T Cutting Tools Inc., West Berlin, NJ

Triplett Machine, Inc., Phelps, NY

Trojan Mfg. Co. Inc., Piqua, OH

Trotwood Corporation, Trotwood, OH

Tru Form Manufacturing Corp., Rochester, NY

Tru Tool, Inc., Sturtevant, WI

Tru-Cut, Inc., Sebring, OH

True Cut EDM Inc., Garland, TX

True-Tech Corporation, Fremont, CA

Trust Technologies, Willoughby, OH

Trutron Corporation, Troy, MI

Tschida Engineering, Inc., Napa, CA

Tucker Engineering Inc., Peabody, MA

Turn-Tech, Inc., Pinehurst, TX

Twin City Plating Company, Minneapolis, MN

Two-M Precision Co., Inc., Willoughby, OH

TAE Corporation, d/b/a T & E Manufacturing, Kent, WA

TCI Precision Metals, Gardena, CA

TMI Industries, Inc., Temperance, MI

TMK Manufacturing Inc., Santa Clara, CA

TMX Engineering & Manufacturing, Santa Ana, CA

U F E Incorporated, Stillwater, MN

U M C, Inc., Hamel, MN

U S Machine & Tool, Inc., Murfreesboro, TN

Ugm, Inc., Salida, CA

Ultra Precision, Inc., Freeport, PA

Ultra Stamping & Assembly, Inc., Rockford, IL

Ultra Tool & Manufacturing, Inc., Menomonee Falls, WI

Ultra-Tech, Inc., Kansas City, KS

Ultramation, Inc., Waco, TX

Ultron, Long Beach, CA

Unique Machine Company, Montgomeryville, PA

Unique Tool & Manufacturing, Randleman, NC

Unitech, Inc., Kansas City, MO

United Centerless Grinding, East Hartford, CT

United Machine Co., Inc., Wichita, KS

United Plastics Group, Anaheim, CA

United Stars Aerospace, Inc., Kent, WA

United States Fittings, Inc., Warrensville Hgt, OH

United Tool & Engineering Co., South Beloit, IL

United Tool & Engineering, Inc., Mishawaka, IN

Universal Brixius, Milwaukee, WI

Universal Custom Process, Inc., Streetsboro, OH

Universal Precision Products Inc., Akron, OH

Upland Fab, Inc., Ontario, CA

UAB Manufacturing Co., Inc., Southampton, PA

USAeroteam, Dayton, OH

V & M Tool Company, Inc., Perkasie, PA

V & S Die & Mold, Inc., Lakewood, OH

V A Machine & Tools, Inc., Broussard, LA

V Ash Machine Company, Cleveland, OH

V I Mfg., Inc., Webster, NY

V R C, Inc., Berea, OH

V.A.W. of America, Inc., Phoenix, AZ

Valley Machine Works, Inc., Phoenix, AZ

Valley Tool & Die, Inc., North Royalton, OH

Valv-Trol Company, Stow, OH

Van Engineering, R Vandewalle, Inc., Cincinnati, OH

Van Os Machine Works, Inc., St. Louis, MO

Van Reenen Tool & Die Inc., Rochester, NY

Van-Am Tool & Engineering, Inc., St. Joseph, MO

Vanderveer Industrial Plastics, Inc., Placentia, CA

Vanpro, Inc., Cambridge, MN

Varco Systems, Orange, CA

Vaughn Manufacturing Company, Inc., Nashville, TN

Venango Machine Products, Inc., Reno, PA

Versacut Ind. Inc., Morenci, MI

Versa Tool & Die Machining, and Engineering Inc., Beloit, WI

Vico Louisville, Louisville, KY

Viking Tool & Engineering, Whitehall, MI

Viking Tool & Gage, Inc., Conneaut Lake, PA

Vistek Precision Machine Company, Ivyland, PA

Vitron Manufacturing, Inc., Phoenix, AZ

Vitullo & Associates, Inc., Warren, MI

Vobeda Machine & Tool Company, Racine, WI

Vulcan Tool Corporation, Dayton, OH

W & H Stampings & Fineblanking, Inc, Hauppauge, NY

W D & J Machine & Engineering Inc., Fullerton, CA

W G Strohwig Tool & Die, Inc., Richfield, WI

W W G, Inc., Indianapolis, IN

W. C. Kirby & Son, Inc., Noblesville, IN

W.A.C. Consulting/Coss Systems Inc., Northboro, MA

Wagner Engineering, Inc., Gilbert, AZ

Wagner Engraving Co., Kirkwood, MO

Waiteco Machine, Inc., Devens, MA

Waltco Engineering, Inc., Gardena, CA

Walter Tool & Mfg. Inc., Elgin, IL

Warmelin Precision Products, Hawthorne, CA

Waukesha Tool & Stamping Inc., Sussex, WI

Wayne Manufacturing, Inc., Boulder, CO

Weco Metal Products, Ontario, NY

Wemco Precision Tool, Inc., Meadville, PA

Wentworth Company, Glastonbury, CT

Werkema Machine Company, Inc., Grand Rapids, MI

Wes Products, Madison Heights, MI

West Hartford Tool & Die Company, Newington, CT

West Pharmaceutical Services, Erie, PA

West Valley Milling, Inc., Chatsworth, CA

West Valley Precision Inc., San Jose, CA

Western Air Products, Tucson, AZ

Western Mass. MechTech, Inc., Ware, MA

Western Tap Manufacturing Co., Inc., Buena Park, CA

Westfield Manufacturing Corp., Westfield, IN

Westfield Tool & Die, Inc., Westfield, MA

Westlake Tool & Die Mfg., Avon, OH

Westool Corporation, Temperance, MI

White Machine, Inc., North Royalton, OH

Whitehead Tool & Design, Inc., Guys Mills, PA

Wiegel Tool Works, Inc., Wood Dale, IL

Wiesen EDM, Inc., Belding, MI

Wightman Engineering Services, Inc., Santa Clara, CA

Wilco Die Tool Machine Company, Maryland Heights, MO

Wilkinson Mfg., Inc., Santa Clara, CA

Willer Tool Corporation, Jackson, WI

William Sopko & Sons Co., Inc., Cleveland, OH

Williams Engineering & Manufacturing, Inc., Chatsworth, CA

Williams Machine, Inc., Lake Elsinore, CA

Williams Machining Co., Edinboro, PA

Windsor Tool & Die, Inc., Cleveland, OH

Wintech Industries Inc., Tempe, AZ

Wire Cut Company, Inc., Buena Park, CA

Wire Tech E D M, Inc., Los Alamitos, CA

Wire-Tech, Inc., Tempe, AZ

Wirecut Technologies Inc., Indianapolis, IN

WireCut E D M, Inc., Dallas, TX

Wisconsin Engraving Company/Unitex, New Berlin, WI

Wise Machine Co., Inc., Butler, PA

Wolverine Bronze Company, Roseville, MI

Wolverine Tool & Engineering, Belmont, MI

Wolverine Tool Company, St. Clair Shores, MI

Woodruff Corporation, Torrance, CA

Wright Brothers Welding &, Sheet Metal, Inc., Hollister, CA

WADKO Precision, Inc., Eagle Lake, TX

WGI Inc., Southwick, MA

WSI Industries, Inc., Osseo, MN

X-L Machine Company, Inc., Three Rivers, MI

XLI Corporation, Rochester, NY

Yarde Metals, Inc., Bristol, CT

Yates Tool, Inc., Medina, OH

Yoder Die Casting Corporation, Dayton, OH

Youngberg Industries, Inc., Belvidere, IL

Youngers and Sons Manufacturing, Company, Inc., Viola, KS

Youngstown Plastic Tooling & Machinery, Inc., Youngstown, OH

Z & Z Machine Products Inc., Racine, WI

Z M D Mold & Die Inc., Mentor, OH

Zircon Precision Products, Inc., Tempe, AZ

Zuelzke Tool & Engineering, Milwaukee, WI

4 Axis Machining, Inc., Denver, CO

[FR Doc. 03-1097 Filed 1-16-03; 8:45 am]

BILLING CODE 3510-DR-P